DEPARTMENT OF EDUCATION

34 CFR Chapter II

[Docket ID ED-2014-OESE-0079; CFDA Number: 84.377A]

RIN 1810-AB22

Final Requirements—School Improvement Grants—Title I of the Elementary and Secondary Education Act of 1965

AGENCY: Office of Elementary and Secondary Education, Department of Education (Department).

ACTION: Final requirements.

SUMMARY: The Assistant Secretary for Elementary and Secondary Education adopts final requirements for the School Improvement Grants (SIG) program, authorized under section 1003(g) of title I of the Elementary and Secondary Education Act of 1965, as amended (ESEA). These final requirements make changes to the current SIG program requirements and implement language in the Consolidated Appropriations Act, 2014, that allows local educational agencies (LEAs) to implement additional interventions, provides flexibility for rural LEAs, and extends the grant period from three to five years. Additionally, the final requirements make changes that reflect lessons learned from four years of SIG implementation.

DATES: These requirements are effective March 11, 2015.

FOR FURTHER INFORMATION CONTACT: Elizabeth Ross, U.S. Department of Education, 400 Maryland Avenue SW., Room 3C116, Washington, DC 20202. Telephone: (202) 260-8961 or by email: Elizabeth.Ross@ed.gov.

If you use a telecommunications device for the deaf (TDD) or a text telephone (TTY), call the Federal Relay Service (FRS), toll free, at 1-800-877-8339.

SUPPLEMENTARY INFORMATION:

Executive Summary

Purpose of This Regulatory Action: These final requirements implement language in the Consolidated Appropriations Act, 2014, to allow LEAs to implement evidence-based, whole-school reform strategies and State-determined school improvement intervention models, to provide flexibility for rural LEAs implementing a SIG intervention, and to extend the allowable grant period from three to five years. Additionally, the final requirements make changes that reflect lessons learned from four years of SIG implementation. This regulatory action is authorized by the Consolidated Appropriations Act, 2014, and 20 U.S.C. 6303(g).

Summary of the Major Provisions of This Regulatory Action: As discussed in more depth in the notice of proposed requirements (NPR) published in the Federal Register on September 8, 2014 (79 FR 53254), the Department makes the following revisions to the current SIG requirements to implement language in the Consolidated Appropriations Act, 2014: Allowing five-year SIG awards; adding State-determined school improvement intervention models; adding evidence-based, whole-school reform models; and allowing rural LEAs to modify one SIG intervention model element.

The Department also revises the current SIG requirements to strengthen program implementation based on lessons learned and input from stakeholders by: Adding an intervention model that focuses on improving educational outcomes in preschool and early grades; adding an LEA requirement to demonstrate the appropriateness of the chosen intervention model and to take into consideration family and community input in the selection of the model; adding an LEA requirement to continuously engage families and the community throughout implementation; adding an LEA requirement to monitor and support intervention implementation; adding an LEA requirement to regularly review external providers' performance and hold external providers accountable; eliminating the “rule of nine”; and revising reporting requirements.

The Department also made revisions to clarify the current SIG requirements: Modifying the teacher and principal evaluation and support system requirements under the transformation model; clarifying the rigorous review process under the restart model; clarifying renewal criteria; defining “greatest need” to include priority and focus schools for SEAs with approved ESEA flexibility requests; clarifying the timeline under which previously implemented interventions (in whole or in part) may continue as part of a SIG intervention; and clarifying requirements related to the posting of LEAs' SIG applications.

Additionally, the Department has removed references to fiscal year 2009 and fiscal year 2010 funds and the differentiated accountability pilot because those references are no longer necessary.

Finally, and as described in more detail in the Analysis of Comments and Changes section of this notice, the Department has made three additional changes to the proposed requirements in these final requirements in response to comments. First, the Department has clarified the name of the evidence-based, whole-school reform model. Second, the Department has clarified that an SEA may take into account, in awarding SIG funds, the extent to which an LEA demonstrates that it will implement one or more evidence-based strategies as part of the intervention model. Third, the Department has modified the definition of “whole-school reform model developer” to eliminate the provision that allowed an entity or individual to serve as a whole-school reform model developer if it had a high-quality plan for implementation and to require a developer to have a record of success implementing a whole-school reform model in a low-performing school and to be selected through a rigorous review process that includes a determination that the entity or individual is likely to produce strong results for the school.

Finally, and as described in more detail in the Analysis of Comments and Changes section of this notice, the Department has made two other changes to the proposed requirements based on the Consolidated and Further Continuing Appropriations Act, 2015, which Congress enacted after the publication of the NPR. First, the Department has aligned the requirement for evidence of effectiveness in the evidence-based, whole-school reform model with the definition of “moderate level of evidence” in the Education Department General Administrative Regulations, specifically by requiring that evidence of effectiveness include at least one study, rather than two studies, that meets the What Works Clearinghouse evidence standards. Second, the Department has modified the State-determined model to require that an SEA's proposed model meet the definition of “whole-school reform model.”

Costs and Benefits: The Department believes that the benefits of this regulatory action outweigh any associated costs to SEAs and LEAs, which would be financed with grant funds. The benefits of this action will be more effective State and local actions, using Federal funds, to turn around their lowest-performing schools and achieve significant improvement in educational outcomes for the students attending those schools. Please refer to the Regulatory Impact Analysis in this document for a more detailed discussion of costs and benefits.

Consistent with Executive Order 12866, the Secretary has determined that this action is economically significant and, thus, is subject to review by the Office of Management and Budget under the order.

Purpose of Program: In conjunction with title I funds for school improvement reserved under section 1003(a) of the ESEA, SIG funds under section 1003(g) of the ESEA are used to improve student achievement in title I schools identified for improvement, corrective action, or restructuring so as to enable those schools to make adequate yearly progress (AYP) and exit improvement status.

Program Authority: 20 U.S.C. 6303(g); Consolidated Appropriations Act, 2014 (Pub. L. 113-76).

We published a notice of proposed requirements for this program in the Federal Register on September 8, 2014 (79 FR 53254). That notice contained background information and our reasons for the revisions to the existing SIG requirements.

There are differences between the proposed requirements and these final requirements as discussed in the Analysis of Comments and Changes section elsewhere in this notice.

Public Comment: In response to our invitation in the NPR, 235 parties submitted comments on the proposed requirements.

Generally, we do not address technical and other minor changes, or suggested changes the law does not authorize us to make under the applicable statutory authority. In addition we do not address general comments that raised concerns not directly related to the proposed requirements.

Analysis of Comments and Changes: An analysis of the comments and of any changes in the requirements since publication of the notice of proposed requirements follows.

Allowing Five-Year Grant Awards

Comment: Many commenters supported the proposal to allow an SEA to make a SIG award to an LEA for up to five years, including the Department's proposal to permit an LEA to use one year for planning and other pre-implementation activities. Many of these commenters stated that they believed a planning year would provide LEAs with needed additional time and resources to prepare for school turnaround efforts and would lead to increased sustainability of reforms among schools receiving SIG funds. One commenter recommended allowing an LEA to use SIG funds for two years of planning and pre-implementation activities, rather than one year.

Discussion: We appreciate the strong support for the proposal to allow grant awards of up to five years, consistent with the Consolidated Appropriations Act, 2014, and agree with the commenters that planning is imperative to successful implementation of turnaround strategies. We believe one year of funding is sufficient for planning purposes under the SIG program, which is intended not to serve as a long-term funding stream but, rather, to provide a short-term infusion of funds for comprehensive and rapid school turnaround. We note, however, that an LEA may also use SIG funds for the planning or other pre-implementation activities it undertakes between the time it receives a SIG award and the beginning of the first grant year.

Changes: None.

Comment: Two commenters requested that we allow an LEA to use SIG funds during the planning period for activities that involve assessing and addressing issues with the schools that feed students into an eligible school.

Discussion: Under section 1003(g) of the ESEA and section I.A.1 of these final requirements, an LEA may use SIG funds only in a SIG-eligible school. It may not use SIG funds to serve a school not receiving a SIG grant that feeds students into a SIG eligible school. Of course, if a school that feeds students into a SIG-eligible school is itself eligible for SIG funds, an LEA may separately seek SIG funds to support interventions in that school.

Changes: None.

Comment: A number of commenters recommended that the Department require LEAs to undertake needs analyses during a planning year. One such commenter suggested that if an LEA chooses to use the first year of its SIG award for planning, that LEA should require all SIG schools to conduct both comprehensive diagnostic needs and capacity assessments to serve as the basis for targeting student supports. Another commenter recommended that the Department require LEAs to provide evidence that they conducted an asset analysis prior to implementation, in order to identify the skills, people, and organizations in the community that can contribute resources and expertise in the design of the selected intervention. Another commenter suggested including, as part of the needs analysis, an analysis of the health needs of the community. Another commenter recommended requiring an SEA, either before or during the planning year, to assess the school's and LEA's performance and capacity to implement a SIG model in order to determine whether the LEA is able to make changes to support implementation. That commenter asked the Department to provide specific tools or criteria to support an SEA's assessment of district readiness. Finally, one commenter recommended strengthening the monitoring of both LEAs and of schools, including an assessment of LEA capacity during a planning year or pre-implementation period to ensure that the LEA is making the changes needed to support full and effective implementation of the selected model.

Discussion: We agree that an LEA should identify the needs of the individual schools it proposes to serve with SIG funds. Under section I.A.4(a)(1), each LEA applying to implement a SIG model in a school must use a needs analysis to ensure that the intervention to be implemented in the school will meet the specific needs of the school, which may include needs for academic and non-academic support. We do not believe it is necessary to require additional needs analyses, capacity assessments, or corresponding monitoring because the needs assessment requirement in section I.A.4(a)(1) is sufficient to ensure that each LEA reviews the particular needs in its schools.

Although the needs analysis required under section I.A.4(a)(1) must be conducted as part of the application process and prior to receipt of SIG funds, an LEA may use the SIG funds it receives to conduct additional needs assessment activities, including, for example, more comprehensive diagnostic analyses, capacity and asset assessments, and assessments of students' health needs, so long as those activities are a part of the LEA's approved SIG application, are related to the implementation of the SIG model, and are reasonable and necessary. Additionally, an SEA may use its section 1003(a) funds or the SIG funds it reserves for administration, evaluation, and technical assistance expenses to support the costs of needs analyses by its LEAs with SIG schools. Because not all LEAs will benefit from each of these activities, we decline to require them.

We also agree that an SEA should continue to monitor and work with its LEAs and schools to ensure they possess the capacity to implement a SIG model prior to awarding funds, including by providing specific tools that an LEA can use in assessing and building capacity. To that end, we note that, under section I.A.4(b), an SEA must consider the LEA's capacity to implement the chosen intervention and may only fund an LEA that it determines can implement fully and effectively the chosen intervention.

Changes: None.

Comment: Two commenters requested that the Department clarify the deadline by which an LEA implementing the turnaround or transformation model must replace the principal if the LEA receives funds for a planning year.

Discussion: Under section I.A.4(a)(3), an LEA implementing the turnaround or transformation model in a school must replace the principal prior to the start of the first year of full implementation of the chosen SIG model. Accordingly, an LEA receiving a SIG award that includes a year of planning must replace the principal prior to the start of the first year of full implementation (i.e., prior to the start of the second grant year). That said, we strongly encourage an LEA implementing the turnaround or transformation model to replace the school's principal as early as possible (consistent with applicable State and local laws and requirements) so that the incoming principal can prepare to lead the full and effective implementation of the model in the school.

Changes: None.

Comment: One commenter asked if an LEA may use the planning year to identify the model it will implement in a school.

Discussion: An LEA must identify the SIG model it intends to implement in a school in its application to the SEA. The planning year is intended to provide the LEA with time and resources to prepare to fully implement that specific model.

Changes: None.

Comment: Several commenters recommended that the Department clarify, in light of the authority for SEAs to make SIG awards for up to five years, the maximum amount of SIG funds an LEA may receive per year per school; and several commenters requested that the Department clarify whether the annual per-school cap of $2 million allows an LEA to receive up to $10 million for a school implementing a model over five years. One commenter also recommended that the Department specify the maximum amount of funds that an LEA may use for both a year of planning and pre-implementation activities and for a year of activities to sustain reforms following full implementation.

Discussion: Section II.B.8 permits an LEA to receive up to $2 million per year per each school implementing an intervention model. Accordingly, an LEA may receive up to $10 million total for such a school over five years.

We do not believe it is worthwhile to place a limit on the amount of SIG funds an LEA may use for a year of planning and pre-implementation activities or for a year of activities to sustain reforms following full implementation, and would expect that in either case the amount needed by an LEA is significantly less than the $2 million per year that it is eligible to receive. We remind SEAs and LEAs that an LEA may receive funds only for activities that are a part of the LEA's approved SIG application, are related to the implementation of the SIG model, and are reasonable and necessary.

Changes: None.

Comment: One commenter asked whether the Department will require SEAs to frontload SIG awards to LEAs or whether SEAs could provide the first year of funding from fiscal year 2014 SIG funds and make annual continuation awards thereafter.

Discussion: The Department does not require an SEA to frontload SIG awards.

Changes: None.

Comment: A few commenters suggested that the Department allow SEAs to provide more than five years of SIG funding to an LEA for a school. Another commenter suggested allowing two one-year renewal periods in addition to the five-year award permitted under the proposed requirements. Another commenter recommended that, for purposes of sustainability, an SEA should be permitted to renew an LEA's SIG award for each school for up to four additional one-year periods after at least three years of full intervention implementation. This commenter also recommended reducing the level of funding for each subsequent, additional one-year period, in order to support sustainability.

Discussion: Through the Consolidated Appropriations Act, 2014, Congress allows SEAs to make SIG awards to LEAs for up to five years per school, notwithstanding section 1003(g)(5)(C) of the ESEA, which allows LEAs to receive two years of SIG funds, in addition to the currently allowable three years, for a school if the school is meeting improvement goals. Therefore, the Department cannot allow an SEA to make SIG awards beyond a five-year period, which includes any renewal years. Moreover, the goal of the SIG program is to support rigorous interventions aimed at turning around our Nation's persistently lowest-achieving schools, such that these schools will be able to sustain the reforms beyond five years without SIG funding, and not to provide continuous support.

Changes: None.

Adding State-Determined School Improvement Intervention Models

Comment: Numerous commenters expressed support for the addition of a State-determined intervention model and for the alignment between the requirements of the State-determined model and the ESEA flexibility turnaround principles. A number of commenters suggested general modifications to the State-determined model requirement. These suggestions included: Allowing State-determined models that are already approved under ESEA flexibility; allowing State-determined models to address school performance in schools that are a part of the same feeder pattern; allowing an SEA without ESEA flexibility to implement a State-determined model based on the turnaround principles; allowing LEAs to propose State-determined models to their SEA; allowing an SEA to submit a State-determined model that includes a menu of strategies from which LEAs may select, in partnership with the SEA, based on need; requiring a State-determined model to be based on substantial evidence; allowing an SEA to add requirements to the State-determined model; and requiring alignment between the proposed State-determined model and the statewide systems of differentiated recognition, accountability, and support that SEAs are implementing under ESEA flexibility. Numerous commenters also recommended that the Department add specific requirements to the turnaround principles required under the State-determined model, including a requirement: To focus on physical fitness, health education, and nutrition; to conduct a school and community assets and needs assessment to identify students' social, emotional, and health needs; if principal replacement is necessary, to appoint a new principal based on a track record of success with similar schools and an ability to demonstrate the necessary leadership competencies; and that school safety and discipline interventions included in State-determined models be evidence-based.

We also received several comments asking for changes to the turnaround principles and to the requirement that a State-determined model include increased learning time (ILT). Several commenters suggested it is too restrictive to require ILT in all State-determined models and requested that the ILT requirement be eliminated or modified to be less restrictive.

Several commenters expressed concern that the requirements for the State-determined model are too numerous and too rigid, and may cause undue burden to SEAs, LEAs, and schools, particularly SEAs that are currently pursuing turnaround strategies with emphases different from those required under the State-determined model.

Discussion: We appreciate the comments on the State-determined model but do not address the comments specifically, as we are revising the model consistent with applicable legal requirements. Since the publication of the NPR, Congress enacted the Consolidated and Further Continuing Appropriations Act, 2015. In the explanatory statement accompanying the Act, which functions as a conference report under section 4 of the Consolidated and Further Continuing Appropriations Act, 2015, the House Committee on Appropriations states that the language in the NPR implementing the State-determined model did not meet congressional intent, which was to provide flexibility from the existing SIG requirements to allow LEAs to implement alternative strategies. The explanatory statement further states that the Department must ensure that the final requirements strictly adhere to the language in the Consolidated Appropriations Act, 2014. Accordingly, we are modifying the State-determined model requirements to allow an SEA to submit to the Secretary for consideration one State-determined model that meets the definition of a “whole-school reform model” in section I.A.3 of the final requirements and that includes, at the SEA's discretion, any other elements or strategies that the SEA determines will help improve student achievement, consistent with the explanatory statement accompanying the Consolidated and Further Continuing Appropriations Act, 2015. We note that the requirement that a State-determined model meet the definition of a “whole-school reform model” and include, at the SEA's discretion, any other element or strategy that an SEA determines will help improve student achievement is also consistent with language in the report that accompanied the fiscal year 2014 appropriations bill for the Department (Senate Report 113-71), in which the Senate Appropriations Committee stated that it expects that any approach taken with SIG funds will address schoolwide factors, including, for example, curriculum and instruction, social and emotional support services for students, and training and support for teachers and school leaders. We further note that an SEA that demonstrates that its proposed State-determined model meets the requirements of the evidence-based, whole-school reform model in section I.A.2(e) will not be required to make any additional demonstration for approval.

Changes: We have modified the requirements in section II.B.1(b) to permit an SEA to submit to the Secretary for approval a State-determined model that meets the definition of “whole-school reform model” in section I.A.3 of the final requirements and that includes, at the SEA's discretion, any other elements or strategies that the SEA determines will help improve student achievement.

Comment: A few commenters asked that the Department clarify whether an SEA could elect to make the State-determined model available to only specific schools in the State. We received a few other comments asking the same question about other models under the SIG program. Several other commenters requested flexibility to allow SEAs to give priority to selected SIG intervention models, rather than making all SIG models available to SIG applicants.

Discussion: As noted in question I-4 of the March 1, 2012, SIG Guidance, available at http://www2.ed.gov/programs/sif/sigguidance03012012.doc, an SEA may not require an LEA to implement a particular SIG model in one or more schools. Each LEA has the discretion to determine which model to implement for each school it elects to serve with SIG funds. The only exception to this is if, consistent with State law, the SEA takes over the LEA or school. Nothing in the requirements changes this rule. However, SEAs are not required to submit a State-determined model for approval by the Secretary. Under section I.A.2(g), if an SEA does not submit such a model for approval by the Secretary, an LEA in that State cannot use a State-determined model.

We also note that, as described in question I-9 of the March 1, 2012, SIG Guidance, available at http://www2.ed.gov/programs/sif/sigguidance03012012.doc, an SEA may give priority to an LEA for SIG funding based on a variety of factors including, for example, the intervention an LEA is implementing in its SIG schools.

Changes: None.

Comment: Two commenters encouraged the Department to consider two specific frameworks in reviewing State-determined models: Multi-tiered Systems of Support and A Framework for Safe and Successful Schools.

Discussion: In order to encourage an SEA to submit for consideration a State-determined model that best addresses the needs of that SEA without imposing additional requirements beyond those in section II.B.1(b), we decline to include in the requirements a specific framework that we will use in reviewing State-determined models.

Changes: None.

Comment: One commenter requested clarification as to whether an eligible online school would be able to meet the requirements of the State-determined model.

Discussion: An eligible online school would be able to meet the requirements of the State-determined model provided the LEA implementing the model in an eligible school can demonstrate that the school has met the requirements of the approved State-determined model.

Changes: None.

Comment: Several commenters recommended revising section II.B.1(b) to permit SEAs to implement more than one State-determined model, citing concerns that limiting each SEA to one State-determined model may not sufficiently account for the complexity of school turnaround and for the diversity of LEAs and schools within a State. Several commenters also suggested that limiting SEAs to one State-determined intervention model may not faithfully reflect congressional intent.

Discussion: We appreciate the commenters' concern that given the diversity of LEAs and schools within a State, an SEA may wish to make more than one State-determined model available to its LEAs and schools. We also appreciate the commenters' interest in ensuring that we are correctly interpreting congressional intent. Nevertheless, our reading of the pertinent language included in the Consolidated Appropriations Act, 2014, and 20 U.S.C. 6303(g), “[t]hat funds available for school improvement grants may be used by a local educational agency to implement an alternative State-determined school improvement strategy . . .” (emphasis added), directs us to authorize each State to implement one State-determined model.

Changes: None.

Adding Evidence-Based, Whole-School Reform Strategies

Comment: Two commenters suggested that the Department clarify that an LEA may implement an evidence-based, whole-school reform model independently of the other SIG intervention models. The commenters intimated that this clarification is needed because the Department referred in the NPR to this type of SIG intervention as a strategy but referred to the other types of interventions as models.

Discussion: Consistent with the Consolidated Appropriations Act, 2014, an LEA may use SIG funds to implement an evidence-based, whole-school reform model in partnership with a whole-school reform model developer and is not required to implement such a model within or together with another SIG intervention model. We are making technical changes to provide the suggested clarification.

Changes: As needed throughout the final requirements, we have replaced references to “whole-school reform strategy” with “whole-school reform model” and references to “strategy developer” with “whole-school reform model developer.”

Comment: A number of commenters expressed support for the inclusion in the SIG program of evidence-based, whole-school reform models; however, several of the commenters recommended that the Department lower or eliminate the evidence requirements for these models, asserting that the requirements are more stringent than intended by Congress or would result in too few whole-school reform models available to LEAs. Some of these commenters recommended that the Department allow LEAs to implement whole-school reform models supported by only a single study that meets What Works Clearinghouse evidence standards with or without reservations (i.e., a qualifying experimental or quasi-experimental study) and found a statistically significant favorable impact on a student academic achievement or attainment outcome, instead of at least two such studies. Some commenters also recommended that we allow or require SEAs to prioritize funding for whole-school reform models supported by more than one such study over those with only a single study. In a similar vein, other commenters recommended that the Department allow an exception to the evidence requirements for a whole-school reform model that is supported by a single study that found extraordinarily large impacts of the model on academic achievement or attainment, for which a second study is underway that would potentially meet the requirements, or that is otherwise promising.

Discussion: Since the publication of the NPR, Congress enacted the Consolidated and Further Continuing Appropriations Act, 2015, which modifies the language in the Consolidated Appropriations Act, 2014, by requiring that the evidence-based, whole-school reform model be based on evidence of effectiveness that includes at least one study instead of two studies. Based on this change, we are modifying the final requirements to align the requirement for evidence of effectiveness required under the evidence-based, whole-school reform model with the definition of “moderate level of evidence” in 34 CFR 77.1.¹ We note that, as described in question I-9 of the March 1, 2012, SIG Guidance, available at http://www2.ed.gov/programs/sif/sigguidance03012012.doc, an SEA may create priorities within its application process to, for example, prioritize applications for whole-school reform models that are supported by more than one study.

¹ The Department previously invited strategy developers and other entities to submit prospective strategies and research studies of the effectiveness of those strategies for review against the requirements for the evidence-based, whole-school reform strategy in the NPR. Based on the revisions to the evidence requirements described in this paragraph, we are re-opening the submission and review process. Accordingly, we invite model developers and other entities to submit prospective models and research studies of the effectiveness of those models for review against the revised evidence requirements in section I.A.2(e)(1) and the requirements of the definition of “whole-school reform model” in section I.A.3. If a model developer or other entity previously submitted a strategy based on the requirements set forth in the NPR, we will consider that strategy against the revised requirements. The previously submitted strategy should not be resubmitted.

We intend to identify, from among the models submitted for review, those that meet the requirements in advance of the competition for fiscal year 2014 SIG funds. An LEA seeking to use SIG funds to implement, in partnership with a model developer, an evidence-based, whole-school reform model would be permitted to choose from among the models so identified by the Department.

We will provide information regarding the submission and review of prospective models on our Web site at www.ed.gov/programs/sif/npr-wholeschlreform.html.

Changes: We have modified the requirements for evidence of effectiveness for the evidence-based, whole-school reform model under section I.A.2(e)(1) to require that evidence of effectiveness include at least one study, rather than two studies, that meets the What Works Clearinghouse evidence standards and by requiring that if the study meets the What Works Clearinghouse evidence standards with reservations, it include a large sample and a multi-site sample as defined in 34 CFR 77.1.

Comment: One commenter recommended that the Department allow, as evidence-based, whole-school reform models, combinations of discrete practices or interventions that individually meet the evidence requirements for these models (and that together would potentially meet requirements in the definition of “whole-school reform model”) but do not have evidence of effectiveness when implemented together.

Discussion: We believe that, in allowing an LEA to implement, in partnership with a model developer, a whole-school reform model that is based on at least a moderate level of evidence that the model will have a statistically significant effect on student outcomes, Congress intended to require evidence of effectiveness for a model as implemented as a whole, not for the individual practices or interventions that may comprise a model as implemented separately. Accordingly, we do not believe it is appropriate to consider such “bundles” of evidence-based practices or interventions as evidence-based, whole-school reform models. We note, however, that an LEA is not prohibited from implementing one or more evidence-based practices or interventions under another SIG intervention model, and in fact, we encourage SEAs to prioritize LEAs that do so when making SIG awards.

Changes: None.

Comment: One commenter recommended that, to ensure whole-school reform models are supported by evidence that conforms to current research standards, the Department specify that the evidence for these models must be consistent with the principles of scientific research as defined in the Strengthening Education through Research Act (H.R. 4366), a bill to reauthorize the Education Sciences Reform Act of 2002, currently under consideration by Congress.

Discussion: The evidence requirements for the whole-school reform model in these final requirements incorporate evidence standards used by the Department's What Works Clearinghouse to assess the quality of research on policies and practices across the educational spectrum. We believe that these existing standards are sufficient to ensure that the evidence supporting whole-school reform models under SIG is rigorous and reflects current standards of practice in educational research. We note that the standards recommended by the commenter are found in pending legislation and there is no guarantee that Congress will adopt them.

Changes: None.

Comment: Two commenters expressed concerns that requirements in the definition of “whole-school reform model” are unnecessarily restrictive. Specifically, the commenters opposed, or recommended changes to, the requirement that a whole-school reform model be designed to be implemented for all students in a school, on the grounds that it would exclude models designed to be implemented for students only in a single grade or subset of grades. One of these commenters also questioned the requirement that a whole-school reform model be designed to address, at a minimum and in a comprehensive and coordinated manner: School leadership; teaching and learning in at least one full academic content area (including professional learning for educators); student non-academic support; and family and community engagement. This commenter argued that the evidence of effectiveness of a reform model should be sufficient to warrant implementation of the model in a SIG school, regardless of the model's content. The commenter also asserted that the definition of “whole-school reform model” is not supported by the language in the Consolidated Appropriations Act, 2014, which allows LEAs to use SIG funds to implement evidence-based, whole-school reform models.

Conversely, several commenters expressed concerns that the requirements for whole-school reform models are not sufficiently specific or stringent. One of these commenters recommended that the Department consider incorporating required elements of other SIG models into the definition of “whole-school reform model,” which the commenter asserted would result in increased rigor. Another commenter suggested that the Department require whole-school reform models to include student health and wellness programs, while another commenter recommended specifying that the models include professional learning for instructional support staff in addition to teachers. Lastly, one commenter suggested that an SEA would have difficulty in monitoring an LEA implementing a whole-school reform model, due to a perceived lack of specific requirements for this model.

Discussion: As stated in Senate Report 113-71 accompanying the Consolidated Appropriations Act, 2014, the Senate Appropriations Committee expects that any approach taken with SIG funds will address schoolwide factors, including, for example, curriculum and instruction, social and emotional support services for students, and training and support for teachers and school leaders. We believe that the requirements in the definition of “whole-school reform model,” including the requirement that a model be designed to be implemented for all students in a school (i.e., in a schoolwide manner), are consistent with congressional intent as described in the Senate Committee report. In addition, we believe these requirements capture, at an appropriate level of specificity, the aspects of school operation that are most likely to affect student achievement and attainment. Accordingly, we do not believe it is necessary to incorporate into the definition of “whole-school reform model” specific required elements of other SIG models or other specific elements recommended by the commenters. Finally, we note that an SEA may require its LEAs to describe in their applications—which the SEA should generally use as a basis for LEA monitoring—the specific contents of selected whole-school reform models, if the SEA deems it necessary for monitoring purposes.

Changes: None.

Comment: One commenter recommended that the Department clarify, in the definition of “whole-school reform model developer,” what constitutes a demonstrated record of success in implementing the model. The commenter also opposed allowing the definition to be met by a developer with a high-quality plan to implement the model together with the LEA, absent a demonstrated record of success implementing the model. This commenter claimed that such a definition would allow any entity or individual to qualify as a developer, regardless of experience.

Discussion: We agree that the proposed definition of “whole-school reform model developer” was overly broad in that it permitted an entity or individual to qualify as a developer, regardless of experience. Accordingly, we are eliminating the option to meet the definition through a high-quality plan to implement a model.

We decline, however, to specify what constitutes a “record of success” because we believe the current requirement strikes the appropriate balance between requiring a demonstration of some improvement while allowing the SEA the discretion to assess the sufficiency of the individual's or entity's record. To ensure that the SEA uses a rigorous process to make this determination, however, we are clarifying in paragraph (b)(2) of the definition that the SEA must use a rigorous review process to select the individual or entity and that the process must include a determination that the individual or entity is likely to produce strong results for the school. To prevent the definition from becoming too restrictive, however, we are eliminating the requirement that the whole-school reform model developer have a record of success implementing the model that the LEA seeks to implement in a school and replacing it with a requirement that the developer have a record of success in implementing any whole-school reform model.

Changes: We have removed paragraph (b)(2) of the definition of “whole-school reform model developer” and adding language to final paragraph (b) of the definition to clarify the process by which an SEA must determine that a whole-school reform model developer has a demonstrated record of success. We also have changed the proposed requirement that the individual or entity have a record of success in implementing the chosen strategy to allow the individual or entity to demonstrate a record of success in implementing any whole-school reform model.

Comment: One commenter recommended that the Department require an LEA to conduct a review of the whole-school reform model developer with whom it proposes to partner to ensure that the developer meets the requirements in the definition of “whole-school reform model developer.”

Discussion: Section II.A.2(c) requires an LEA to provide evidence of its strong commitment to implement an evidence-based, whole-school reform model through, among other things, a demonstration that it has partnered with a whole-school reform model developer as defined in section I.A(3). Additionally, section I.A.4 requires an SEA to consider the extent to which an LEA has provided such a demonstration in making an award. We believe these requirements are sufficient to ensure that an LEA's partner meets the definition of a “whole-school reform model developer.”

Changes: None.

Comment: One commenter suggested that the Department add requirements to ensure that developers build effective relationships with the schools and communities they serve, including by building the capacity of school staff to implement the model's reforms.

Discussion: The definition of “whole-school reform model” includes requirements that the model be designed to address teaching and learning in at least one full academic content area (including professional learning for educators) and to address family and community engagement. We believe these requirements are adequate to ensure that an evidence-based, whole-school reform model implemented by an LEA in partnership with a developer can meaningfully involve, and be responsive to the needs of, the school's educators and the broader community and to ensure that staff have the capacity to implement the model.

Changes: None.

Comment: One commenter suggested that, by allowing evidence-based, whole-school reform models, the Department intends to direct SIG funds toward established whole-school reform model developers. Another commenter suggested that the Department add requirements to ensure that whole-school reform model developers are not unduly compensated for services provided.

Discussion: An LEA seeking SIG funds may choose from among several intervention models and is not required to select and implement an evidence-based, whole-school reform model in partnership with a whole-school reform model developer. Moreover, as with any LEA receiving SIG funds, and consistent with question I-30 of the March 1, 2012, SIG Guidance, available at http://www2.ed.gov/programs/sif/sigguidance03012012.doc, an LEA implementing an evidence-based, whole-school reform model in partnership with a developer may use funds to cover only costs that are reasonable and necessary for implementation of the selected model.

Changes: None.

Comment: One commenter expressed support for the requirement for an SEA to evaluate, when considering the strength of an LEA's commitment, the extent to which the LEA demonstrates in its application that the evidence for its selected whole-school reform model includes a sample population or setting similar to the population or setting of the school to be served. However, this commenter expressed concern that the requirement might prevent certain LEAs from implementing an evidence-based, whole-school reform model. Specifically, the commenter suggested that a rural LEA would be prevented from implementing a whole-school reform model if the evidence for the model did not include a rural setting. Another commenter likewise expressed support for the requirement, but cautioned that the demonstrations required of LEAs might be unduly burdensome and, therefore, deter LEAs from selecting an evidence-based, whole-school reform model.

Discussion: We believe that the commenters' concerns are unwarranted. Insofar as whole-school reform models are designed to be implemented in low-performing schools, we expect that an LEA should generally be able to demonstrate successfully a similarity between the SIG school it proposes to serve, including a SIG school in a rural LEA, and the schools in the samples of the research supporting the evidence-based, whole-school reform model. Of course, an LEA should be careful to ensure that a prospective whole-school reform model is appropriate for a school in light of its characteristics. It would likely be inappropriate, for instance, to implement a secondary school whole-school reform model in an elementary school, or a whole-school reform model for schools with high concentrations of English learners in a school with few such students.

In addition, we believe that any additional burden associated with the demonstration required would be outweighed by the benefits of implementing reforms that have been shown through rigorous research to be effective in improving student achievement and attainment.

Changes: None.

Comment: One commenter recommended that we permit an LEA seeking to implement an evidence-based, whole-school reform model to use SIG funds to partner with a community-based organization to implement out-of-school programming that complements and reinforces the selected whole-school reform model.

Discussion: An LEA implementing an evidence-based, whole-school reform model in partnership with a whole-school reform model developer is not prohibited under the requirements from using SIG funds also to partner with another organization to provide out-of-school programming, provided the LEA has received sufficient funds to do so.

Changes: None.

Rural LEAs' Modification of One SIG Intervention Model Element

Comment: Many commenters supported the proposal to permit an LEA that is eligible for services under subpart 1 or 2 of part B of title VI of the ESEA (rural LEA) to modify one element of the turnaround or transformation model and the proposal to collect data on the number of rural LEAs that implement SIG models with modified elements. Several commenters recommended extending the proposed flexibility for rural LEAs to the early learning model, in addition to the turnaround and transformation models. These commenters stated that for the same reasons that schools in rural LEAs need flexibility in implementing the transformation and turnaround models, these schools need flexibility in implementing the early learning model.

Discussion: We appreciate the commenters' support for the rural flexibility, which is consistent with language in the Consolidated Appropriations Act, 2014. We believe that this rural flexibility should apply to the existing turnaround and transformation models to ensure that a rural LEA is able to implement successfully existing SIG models, despite potential capacity issues and other challenges. Through the rural flexibility, we recognize that a rural LEA may not be in a position to implement each element of the turnaround or transformation model because, for example, it lacks a pool of high-quality school leaders from which it can choose a principal replacement. The rural flexibility provides a rural LEA with an alternate method to meet the leadership requirements of the turnaround and transformation models.

In designing the new models, we built in sufficient flexibility such that the rural flexibility is not necessary to make these models available to rural LEAs. The new models offer a broader array of intervention strategies among which a rural LEA may select the one that best fits the unique context and needs of its schools, based in part on the district's capacity to implement the model. The addition of these new models, along with the rural flexibility provided in the turnaround and transformation models, should offer enough options such that a rural LEA is able to select and successfully implement an appropriate SIG model.

Changes: None.

Comment: One commenter recommended that the Department allow a rural LEA to modify more than one SIG intervention model element.

Discussion: The requirements allowing a rural LEA to modify just one element of a model are consistent with the language in the Consolidated Appropriations Act, 2014, which states that a rural LEA may modify “not more than one” element of a SIG intervention model.

Changes: None.

Comment: One commenter expressed concern that a non-rural LEA may perceive the element that a rural LEA chooses to modify as less essential to the intervention model as a whole. Another commenter recommended that an LEA only be permitted to modify an element based on the LEA's specific needs and context, rather than any element that the LEA fears is too difficult or controversial to implement.

Discussion: We appreciate that allowing rural LEAs to modify an element of the turnaround or transformation model could create the perception that those elements are not necessary to successfully turn around a school. We believe, however, that rural LEAs face unique challenges and that increased flexibility will help those LEAs successfully turn around low-achieving schools. By requiring rural LEAs to demonstrate that they will meet the intent and purpose of the original element, we believe that they will maintain the integrity of the turnaround and transformation models.

Changes: None.

Comment: One commenter recommended providing flexibility for rural schools in non-rural LEAs.

Discussion: The proposed requirement permitting a rural LEA to modify one SIG intervention model element is consistent with the Consolidated Appropriations Act, 2014, which requires that this flexibility apply to an LEA that is eligible under subpart 1 or 2 of part B of title VI of the ESEA.

Changes: None.

Comment: One commenter requested that the Department help build State and local capacity for supporting sustained rural school improvement.

Discussion: We understand that some rural areas face unique challenges in turning around low-achieving schools, but we believe that the significant amount of funding available to implement the SIG models, as well as the new flexibility extended to rural LEAs, will help these LEAs and schools to overcome the resource limitations and capacity issues that have hindered successful rural school reform. We intend to continue to provide technical assistance to rural LEAs and schools on successful SIG implementation.

Changes: None.

Comment: One commenter requested that the Department provide a rationale for requiring SEAs to report on the number of schools implementing models with a modified element. Another commenter asked that the Department require SEAs to make publicly available on the SEA's Web site information about schools in rural LEAs implementing SIG models with modified elements.

Discussion: Under section III.A(3) of the requirements, an SEA must report data on the number of rural schools implementing models with a modified element. We believe that these reporting requirements are necessary to ensure that the public and the Department have sufficient information to understand how the rural flexibility is being applied, and that they do not impose an unjustified or significant burden on SEAs.

An SEA is required to post on its Web site, within 30 days of awarding SIG funds, all approved LEA applications. Because a rural LEA requesting to modify an element of a SIG model must demonstrate in its application how it will meet the intent and purpose of the original element, information about rural LEAs and any modifications to the models they are implementing will be available as part of the LEA's application on the SEA's Web site.

Changes: None.

Comment: One commenter requested that the Department provide additional examples of elements that a rural LEA may request to modify, beyond replacing the principal.

Discussion: We intend to issue guidance to assist SEAs and LEAs in implementing the rural flexibility. We encourage each rural LEA to take into account local context and need in making the decision regarding which element, if any, to modify.

Changes: None.

Adding Early Learning Model

Comment: Several commenters supported the addition of the early learning model. One commenter believed that research in this area is undeniable and that the challenge in implementing high-quality preschool programs has been a lack of funding, which the early learning model can address for LEAs that choose this model. Other commenters noted that research shows the achievement gap begins before kindergarten and that investments in high-quality early learning programs help children from low-income families prepare for success in kindergarten. Another commenter particularly applauded the emphasis on all domains of development, not just academic, in the early learning model.

Discussion: We appreciate the commenters' support. We believe the early learning model can lead to both short- and long-term positive outcomes for all children in a SIG school implementing this model, including, but not limited to, improved academic achievement, social development, lower rates of grade retention and placement in special education, and improved graduation rates. Educational improvement strategies that focus on preschool and the early grades can address the persistent and large achievement gaps by race and income that are evident upon kindergarten entry, often well entrenched by third grade, and that negatively affect both individual student outcomes in later grades and overall school performance.

Changes: None.

Comment: Many of the commenters offering support for the addition of the early learning model submitted substantially identical requests to add a new requirement to section I.A.2(f) of the proposed requirements that would require an LEA implementing the proposed early learning model to provide a high-quality, evidence-based literacy intervention (that has at least two pieces of evidence of effectiveness) for students who, after one year in school, are identified as being at risk of literacy failure (using a reliable and valid screener).

Discussion: We believe that there are a number of important activities that would be appropriate to address in an early learning model. We agree that early literacy interventions, particularly those that are evidence-based, can be an effective component of a broader strategy to turn around low-performing schools along with strategies that address social and emotional development, early math and science, and other domains of early development. Nothing in the proposed requirements would prevent an LEA from implementing such an intervention under any of the models. However, to permit LEAs flexibility to select those interventions that best address their local needs, we decline to require LEAs to implement an evidence-based literacy intervention under this model.

Changes: None.

Comment: One commenter asked for clarification about how the preschool requirements proposed for the early learning model are similar to or different from current guidelines for title I schools.

Discussion: The Department's non-regulatory guidance, Serving Preschool Children Through Title I Part A of the Elementary and Secondary Education Act of 1965, as Amended,² is primarily focused on helping SEAs and LEAs understand how they may use ESEA title I, part A funds to support preschool programs consistent with all applicable statutory and regulatory requirements. Like all non-regulatory guidance, it does not impose any additional requirements on SEAs or LEAs beyond those of existing law and regulations. For example, the title I preschool non-regulatory guidance describes how title I funds may be used to support preschool programs and services for eligible children in the context of title I schoolwide programs, targeted assistance programs, and districtwide preschool programs. It also clarifies such issues as which children are eligible to participate in title I-funded preschool programs, the qualifications of teachers and paraprofessionals working in such programs, requirements for parental involvement in title I preschool programs, and the applicability of supplement-not-supplant provisions. In other words, the title I preschool non-regulatory guidance mainly addresses compliance with applicable requirements of title I, part A of the ESEA, rather than the implementation of high-quality preschool programs.

² Available at: http://www2.ed.gov/policy/elsec/guid/preschoolguidance2012.pdf.

The requirements of the new early learning model in the SIG program relating to high-quality preschool programs are based closely on the related requirements in the Department's Preschool Development Grants program, which defines “high-quality preschool program” to include elements that research suggests are most effective in promoting school readiness and improving long-term educational and life outcomes, especially for children from low-income families. More information on the Preschool Development Grants program may be found at http://www2.ed.gov/programs/preschooldevelopmentgrants/index.html.

Changes: None.

Comment: Several commenters suggested that the Department add requirements within the early learning model to ensure adequate family and community engagement. One commenter suggested the Department require that professional development for all staff under this model include high-impact strategies for family engagement. Another commenter encouraged the Department to add a requirement in the early learning intervention model that the grantee design and implement initiatives and strategies that build the capacity of school staff and families to engage in effective partnerships that support student achievement and healthy development. A few commenters requested that the definition of a “high-quality preschool program” be modified to include continuous and meaningful family and community engagement and proposed definitions for this term.

Discussion: The Department agrees that family and community engagement, both on an ongoing basis and in selection of the appropriate SIG model, is an essential component to ensure successful turnaround of the lowest performing schools. As such, under sections I.A.4(a)(1) and I.A.4(a)(8), an SEA must consider the extent to which an LEA has demonstrated that it engaged families and the community in the selection of the SIG model and how the LEA will meaningfully engage families and the community on a continuous basis throughout implementation. These requirements apply across all models, including the early learning model. While we agree that family and community engagement may be one valuable area of professional development, we decline to add a specific requirement for professional development or capacity building regarding family and community engagement so that LEAs may determine which types of professional development and capacity building activities to offer based on the particular needs of their schools and communities.

Changes: None.

Comment: Several commenters requested that the Department clarify that a high-quality, community-based provider may provide preschool services as part of the early learning model, either at the SIG school or through an existing high-quality child care or Head Start program within the LEA or nearby community. Many of these commenters argued that clarifying this aspect of implementation of the early learning model would help align SIG with other Department programs, such as the Preschool Development Grants and title I programs, through which the Department has encouraged mixed-delivery models for preschool services. Some commenters noted that allowing a community-based provider to provide preschool services as part of an early learning model is consistent with many LEAs' provision of preschool services, including services that are supported with title I funds, and that existing providers may be better equipped to rapidly expand capacity and serve additional children, particularly because of their working knowledge of the community. One commenter hypothesized that explicitly allowing LEAs to partner with those existing programs to provide preschool services could help make the early learning model more attractive to LEAs.

A couple of commenters recommended that if a SIG elementary school contracts with a child care or Head Start program to deliver preschool services, it should be required to describe how it will work to coordinate with the school on appropriate and effective transitions to build continuity of high-quality early learning. One commenter specifically suggested that libraries be listed as an eligible entity and allowable partner under the proposed early learning model. One commenter requested that the Department add a new element to the early learning model, requiring partnerships with external providers, such as community-based organizations and community-based media outlets, in order to increase the quality of the early learning program and its connections to the larger community.

Discussion: As part of its implementation of the early learning model, an LEA may contract with a community-based provider to provide high-quality preschool programs for students enrolled in an elementary school implementing the model. This is consistent with the SIG program in general, which allows the use of external providers and other community-based organizations under any of the SIG models. Any SIG school working with a community-based provider should ensure coordination across all grades in the elementary school, including preschool, to ensure continuity of high-quality early learning and appropriateness of transitions. The Department will provide additional guidance to help LEAs and schools work with community-based providers to provide high-quality preschool programs as part of the comprehensive early learning model. LEAs may choose to use an external provider in implementing their early learning models, or enter into a partnership with various entities, such as school libraries. However, the Department's intent is to provide sufficient flexibility for LEAs, so that they may take into account the local context and needs of the community to the greatest extent possible and, therefore, the Department declines to revise the proposed requirements based on these comments.

Changes: None.

Comment: One commenter requested that we require curricula in the early learning model that employ high-quality multiplatform digital content and services.

Discussion: The Department is prohibited from mandating State, LEA, or school curriculum under 20 U.S.C. 7907. We therefore decline to make the commenter's suggested change.

Changes: None.

Comment: A few commenters asked if a preschool must be physically located in the eligible elementary school and whether the preschool could be a feeder preschool for several schools, including the SIG-eligible school.

Discussion: A preschool is not required to be physically located in the eligible elementary school. However, students must be enrolled in the SIG school that is implementing the early learning model to receive preschool services funded through the SIG program.

Changes: None.

Comment: One commenter suggested that we require an LEA to describe in its SIG application how the impact of high-quality early learning experiences will be sustained over time.

Discussion: Under section I.A.4(a)(12), an SEA must evaluate the extent to which an LEA demonstrates in its application for a SIG award that it will sustain the reforms after the funding period ends. We believe this existing requirement is responsive to the commenter's suggestion.

Changes: None.

Comment: Several commenters noted concerns about relying on early learning as the sole focus of a school's turnaround strategy. One commenter recommended adopting the early learning model as a turnaround strategy only in conjunction with at least one other strategy. Another commenter recommended that the Department require LEAs to demonstrate how an early learning model will complement and be linked to a school's other reform strategies, particularly efforts to ensure that children read at grade level by the third grade. One commenter noted that it is unclear which requirements in the model apply across the whole school as opposed to just the early grades being added to the school. Specifically, the commenter thought it was unclear if the requirement to implement staff retention strategies, such as the provision of financial incentives and increased opportunities for promotion and career growth, applied to all grades or only the early grades. This commenter was concerned that the SEA may not be able to allocate enough funds to an LEA to implement the many requirements with fidelity in all grades while adding new early learning services to the school.

Discussion: We recognize that early learning is only one strategy to turn around the persistently lowest-performing schools. As such, the early learning model includes requirements similar to those of the current transformation model to ensure all students across all grades in the elementary school are receiving services. For example, the model requires an LEA to implement rigorous, transparent, and equitable evaluation and support systems for teachers and principals; implement such strategies as financial incentives, increased opportunities for promotion and career growth, and more flexible work conditions; and use data to identify and implement an instructional program that is research-based, developmentally appropriate, and vertically aligned from one grade to the next. In this way, the early learning model is analogous to the other SIG models in that it is a comprehensive whole-school reform model. The early learning model requirements in section I.A.2(f)(1)(C) and sections I.A.2(f)(2)-(9) apply across the whole school, and we encourage each LEA implementing the early learning model to coordinate services across all grades in the school. An LEA may receive up to $2 million per year per school implementing the early learning model, which we believe is sufficient to implement the early learning model requirements with fidelity.

Changes: None.

Comment: Many commenters encouraged the Department to include evidence-based home visiting services, either directly or through partnerships and contracts, as either an allowable or required activity under the early learning model. Commenters contended that well-designed home visiting systems improve child and family outcomes and increase parents' ability to support their children's development and success. A few of those commenters noted that adding this requirement would align SIG with other Department efforts and that some LEAs already use title I funds to provide home visiting services prior to school entry. Another commenter suggested that evidence-based home visiting should be an allowable activity under the definition of ILT and that this activity would be less costly than other activities required under ILT.

Discussion: We agree that evidence-based home visiting services can be a valuable component of any school turnaround model. As such, home visiting is an allowable activity under all of the SIG models, although it does not meet the definition of ILT. To ensure continued flexibility regarding allowable uses of funds under the SIG program, we decline to reduce State and local discretion by adding a requirement that an LEA implementing the early learning model must provide home visiting services.

Changes: None.

Comment: Several commenters opposed the requirement to replace the principal in the early learning model. Some of these commenters urged the Department to require applicants using the early learning model to provide support and professional development for principals as well as teachers, and base firing decisions only on fair and objective evaluations of the principal after the principal has been allowed time to implement the model. One commenter noted that an LEA's needs analysis may reveal that the root cause for low student achievement is a lack of access to early learning and, as such, replacing the principal may not be necessary. This commenter also noted that, as currently written, the transformation model allows for the expansion of the school program to offer full-day kindergarten or pre-kindergarten to a school without many of the restrictions detailed in the newly proposed early learning model. One commenter also suggested that the Department clarify that the principal replacement requirement in section I.A.2(f)(2) refers to the leader of the SIG-eligible school, not to the leader of the preschool.

Discussion: We understand that replacing a school principal is one of the most challenging aspects of the early learning model; however, we also know that many of our lowest-achieving schools have failed to improve without leadership changes. We continue to believe that dramatic and wholesale changes in leadership are an appropriate intervention for creating an entirely new and improved school culture. We acknowledge that it can be difficult to identify, train, and retain qualified school leaders for the lowest-performing schools, but other Federal programs, including the Turnaround School Leaders program funded with SIG national activities funds, are helping to create incentives and supports to attract, train, and reward effective principals and improve strategies for recruitment, retention, and professional development. Additionally, flexibility within section I.B.1 of the requirements permits an LEA to retain a school principal who has held the position for two years or less prior to the implementation of the SIG model. We recognize that an LEA may expand the school day to offer full-day kindergarten or pre-kindergarten in a school implementing one of the other SIG models. The addition of the early learning model, however, provides another option for LEAs to consider in determining which interventions are necessary to turn around low-performing schools. To clarify, any of the requirements of the early learning model, including the requirement to replace the principal, apply to the elementary school implementing the model, not to the leader of the preschool if the preschool is provided through a community-based provider with which the school contracts.

Changes: None.

Comment: Several commenters stated that the proposed requirements for the early learning model are too prescriptive and establish requirements that are not feasible for LEAs to implement, particularly those LEAs that do not currently offer full-day kindergarten or preschool programs. One commenter suggested removing requirements not directly related to high-quality early learning to reduce the challenges of implementation. Another commenter recommended that the Department allow SEAs to make subgrants for early learning to LEAs that do not necessarily meet all the criteria in the requirements, so long as the SEA can demonstrate that the LEAs will meet the State's own requirements for high-quality preschool programs or meet other recognized standards of quality, to allow LEAs to phase in early learning interventions. Other commenters suggested that the model should allow for phase in of new slots for preschool students due to the challenges in, and disruption that can be caused by, implementing many reforms at the same time.

Discussion: We believe that all of the components of the early learning model, including the requirements relating to expanding high-quality preschool programs and addressing the needs of all students in the elementary school, are necessary to help ensure successful school turnaround and are feasible to implement. As with all of the SIG models, full implementation of all of the elements of the model must begin on the first day of the school year when the LEA begins full implementation. We note, however, that under section II.A.3 of the requirements, LEAs have up to one full school year for planning and pre-implementation activities, during which they could begin phasing in various components of the early learning model. We believe that this one-year period is sufficient for an LEA to prepare to implement in a high-quality manner an early learning model in a school at the start of the next school year. We also note that an LEA may choose one of the other SIG models to implement if it does not have the capacity to fully implement the early learning model.

Changes: None.

Comment: Many commenters were pleased that full-day kindergarten was included in the proposed early learning model. Several commenters proposed that the Department further define “full-day” kindergarten to align with the definition in the Department's Preschool Development Grants. One commenter noted that there is no standard definition of “full-day kindergarten” and requested that the Department adopt a definition to help ensure programs are comparable for evaluation and funding purposes and that students are receiving equitable opportunities. Another commenter recommended that we incorporate into the SIG requirements several additional definitions from the Department's Preschool Development Grant program, including the definitions of “Early Learning Development Standards” and “Essential Domains of School Readiness.” Another commenter recommended adding language to require kindergarten and early grades to meet the requirements under the definition of “high-quality preschool,” including the requirements that schools assign teachers with certifications and endorsements in early childhood education to the early grades. This commenter also suggested that teachers in the early grades should have credentials and professional development that recognize the specialized knowledge and skills needed to work with preschool through third-grade students.

Discussion: Unlike the Preschool Development Grants program, the early learning model under the SIG program is a comprehensive approach to whole-school turnaround. For that reason, the requirements reflect a balance between the Department's interest in encouraging the implementation of a rigorous early learning intervention, as well as coordinated services for all students in the school, and our interest in allowing LEAs the flexibility to tailor their activities to fit local needs and context. For that reason, we decline to adopt the definition of “full-day” kindergarten or other definitions in the Preschool Development Grants program or to otherwise expand the requirements as suggested. We also decline to expand the requirements of a high-quality preschool program to apply to kindergarten or the early grades because the requirements in section I.A.2(f)(1)(C) and sections I.A.2(f)(2)-(9) are sufficient to ensure that all students in the school, regardless of grade, will benefit from the model.

Changes: None.

Comment: Some commenters expressed support for the proposed requirement within the early learning model to provide joint planning time for educators across grades. One commenter encouraged the Department to require that the joint planning time include collaboration and professional development to ensure that educators serving in SIG schools have the capacity to serve children across the range of developmental domains. One commenter noted that it is unclear whether teachers in all grades in the elementary school are required to engage in joint planning and recommended requiring cross-grade planning for teachers teaching kindergarten through third grade.

Discussion: We agree that joint planning across grades is an essential component of any school turnaround strategy, and that this component is particularly important in models that include the provision of high-quality preschool. We confirm that, to ensure continuity across grades, cross-grade planning across all grades is required under section I.A.2(f)(1)(C). Accordingly, we decline to limit this requirement to apply only to teachers of students in kindergarten to third grade. We also note that professional development, which we expect often includes collaboration, is required under section I.A.2(f)(8) and must be designed to ensure that staff have the capacity to implement successfully the school reform strategies.

Changes: None.

Comment: One commenter encouraged the Department to study the potential impact of investing in early learning, particularly because most current turnaround metrics focus on third grade and beyond. This commenter also suggested that the current SIG metrics provide a disincentive for LEAs to choose the early learning implementation model as assessment results in grades three and up are used as the primary determinant of a turnaround model's success. The commenter suggested shifting the focus from standardized test scores to measures of professional practice, which could be used in combination with child outcome metrics. The commenter recommended that the SIG requirements explicitly authorize SEAs to adopt metrics of this kind for at least their elementary schools.

Discussion: We agree that it is important to evaluate the impact of school turnaround efforts, which is why the Department will require SEAs and schools to collect and report data on the implementation of their chosen model, including the early learning model. Standardized test scores are not the primary metric that schools and SEAs must report. Rather, they are one of a number of measures that will be used to assess whether an LEA's implementation of the chosen SIG model in a school is effective. Other measures include the absenteeism rate and number of discipline incidents. Although we do not require SEAs to report professional practice data, they are required to report on the distribution of teachers by performance level based on the LEA's teacher evaluation system, which generally includes measures of professional practice. We encourage SEAs, LEAs, and schools to collect additional data, such as professional practice data, which can help provide a more holistic picture of whether a SIG model has been effectively implemented.

Changes: None.

Comment: One commenter stated that it is unclear from the proposed requirements whether the early learning model would apply to any LEA that receives SIG funding to implement any SIG model in an elementary school, or if it constitutes a new model for which an LEA may apply for SIG funds based on the early learning needs of its elementary schools.

Discussion: To clarify, the early learning model is a new model under the SIG requirements. An LEA implementing another model is not required to meet the requirements of the early learning model. Likewise, although current grantees may add early learning strategies, such as high-quality preschool programs or full-day kindergarten, they are not required to do so.

Changes: None.

Comment: One commenter suggested that the services of school social workers, school psychologists, and other school-employed support personnel should meet the requirements for on-site accessible comprehensive services.

Discussion: Nothing in the requirements would preclude a school from fulfilling the requirements for on-site accessible comprehensive services by using support staff employed by the school to provide such services.

Changes: None.

Comment: One commenter contended that building a preschool program in a persistently low-performing school does not address the overall academic weaknesses that were responsible for the school's identification by the State and recommended removing the early learning model and the definition of “high-quality preschool.” The commenter argued that the early learning strategy incorrectly places an emphasis on a new cohort of young children, rather than focusing on the current students whose underperformance is the statutory target of the SIG program.

Discussion: Consistent evidence demonstrates that participation in high-quality early learning programs can lead to both short- and long-term positive outcomes for all students.³ We believe that, if a school focuses on improving or adding a high-quality preschool program, the positive effects will continue well into students' educational future, thus improving the overall academic weaknesses that were responsible for the school's identification by the State. By focusing on improving educational opportunities for students in the early years, schools can break the cycle of poor academic achievement before it even begins, which will then give these students a better chance at success throughout their academic careers. Further, although the early learning model's primary focus is on early learners, the model also requires interventions designed to address the needs of all students at the school. Moreover, we note that under all of the SIG models, new students enroll in the school after the school has been identified as eligible.

³ See “Investing in our Future: The Evidence Base on Preschool Education” (available at http://fcd-us.org/sites/default/files/Evidence%20Base%20on%20Preschool%20Education%20FINAL.pdf). Society for Research in Child Development and the Foundation for Child Development, October 2013.

Changes: None.

Comment: One commenter requested that the Department require LEAs to provide early screenings for learning issues and delays in early literacy and math skill development, and provide appropriate interventions based on screening outcomes.

Discussion: We agree that providing early screenings to identify students with disabilities is a meaningful activity, and is an allowable use of SIG funds under any of the SIG models. However, to ensure schools have the flexibility to tailor their interventions to local needs, we decline to require this activity under the early learning model.

Changes: None.

Comment: One commenter suggested that the Department require that the early learning model be coordinated and integrated fully with any existing State preschool program.

Discussion: While we strongly believe that any efforts undertaken with SIG funding should closely align with turnaround work across the State and that there may be positive results from coordinating with a State's preschool program, we decline to require that the early learning model be coordinated and fully integrated with the State preschool program. Given the disparity in State requirements regarding high-quality preschool programs, such a requirement may be unduly burdensome and too difficult to ensure consistency in implementation.

Changes: None.

Comment: One commenter suggested that the Department encourage approaches and partnerships that utilize technology for personalized learning by explicitly supporting the use of digital learning in the early learning model. The commenter believed this could be especially beneficial to schools in rural areas, which, the commenter suggested, should receive priority for SIG funding.

Discussion: We agree that technology can be used to enhance personalized learning, particularly in rural areas, and digital learning is a permitted activity under the early learning model. However, we decline to specifically require digital learning. There are many valuable strategies that schools should consider in implementing a comprehensive school turnaround strategy and, therefore, we designed the models to identify general performance objectives while also maximizing an LEA's discretion to choose the strategies that meet both these general objectives and the school's particular needs. We also note that, as described in question I-9 of the March 1, 2012, SIG Guidance, available at http://www2.ed.gov/programs/sif/sigguidance03012012.doc, an SEA may give priority to an LEA for SIG funding based on a variety of factors including, for example, the rural status of the school or LEA.

Changes: None.

Modifying the Teacher and Principal Evaluation and Support System Requirements Under the Transformation Model.

Comment: A number of commenters expressed support for the proposed requirement in section I.A.2(d)(1)(A)(ii) revising the transformation model requirement for teacher and principal evaluation and support systems, with some noting that they supported the alignment between the proposed requirements for these systems and the requirements under ESEA flexibility. Other commenters supported the proposed requirement that teacher and principal evaluation and support systems use multiple measures. One commenter, however, recommended revising the requirement related to the use of data on student growth to allow, but not require, the use of multiple measures for the evaluation of teachers of tested grades and subjects (but to continue to require the use of data on student growth based on State assessments for teachers of tested grades and subjects) and to allow, but not require, alternate measures of student growth for the evaluation of teachers of non-tested grades and subjects. Another commenter recommended that the results of standardized tests should comprise only a small percentage of a teacher's evaluation. One commenter noted that the link between children's test scores and teacher and principal evaluations is not appropriate, especially for teachers of early grades.

Discussion: We appreciate the comments supporting the alignment of the requirements for educator evaluation systems under the transformation model with the requirements for these systems under ESEA flexibility. We agree that this change will reduce the burden on LEAs in SEAs with approved ESEA flexibility requests because they will not have to implement separate evaluation systems. However, to ensure that such systems are both fair to educators and contribute to improved instruction for all students, we believe it is essential to maintain the proposed requirements for the use of multiple measures, including student growth for teachers of non-tested grades and subjects. We also believe that student growth based on State assessments should be a significant factor in evaluations of teachers of all tested grades and subjects because State assessments offer objective measures that are consistent across LEAs; while the Department has been flexible about defining what constitutes a “significant factor,” requiring student growth data to comprise only a small percentage of evaluations would not be consistent with this longstanding position.

Changes: None.

Comment: One commenter recommended extending the requirement for teacher and principal evaluation and support systems to the turnaround model and requiring that the systems be used for decisions about financial incentives. The commenter also recommended that the Department revise the transformation model requirements to state specifically that the use of educator evaluation and support systems in decisions about retaining staff and selecting new staff is permissible. Finally, the commenter recommended requiring an LEA implementing the early learning model in a school to use the evaluation and support system to select new staff and prevent ineffective staff from transferring to the school.

Discussion: We agree that it would be beneficial for all schools to implement teacher and principal evaluation and support systems that meet the requirements in section I.A.2(d)(1)(A)(ii) and to use the results of those systems in making personnel decisions generally, including in making decisions regarding the payment of financial incentives. We also note that implementing such an evaluation and support system is allowable under any SIG model, including the turnaround model. However, such systems generally are not designed to support the rigorous requirement for staffing changes under the turnaround model, which calls for screening and rehiring no more than 50 percent of existing staff and hiring new staff. This is why the turnaround model instead requires the use of locally adopted competencies for this purpose. However, an LEA implementing the turnaround model in a school may use the results of a teacher and principal evaluation and support system in making personnel decisions, including hiring decisions, in addition to locally adopted competencies.

We also note that an LEA implementing the transformation model already must use the results of the evaluations for personnel decisions, in accordance with section I.A.2(d)(1)(A)(ii)(6), and that an LEA implementing the early learning model already must use the results of the evaluations for personnel decisions, in accordance with section I.A.2(f)(3).

Changes: None.

Eliminating the “Rule of Nine”

Comment: Four commenters supported eliminating the “rule of nine,” while one commenter disagreed with the elimination of this rule, based on the original premise that it promoted the selection of the most rigorous SIG interventions (i.e., turnaround and restart), which the commenter believed are more likely to result in improved student performance.

Discussion: We appreciate the support for the elimination of the “rule of nine,” and note that, as stated in the NPR, it had limited impact. In addition, we believe that a rule limiting the specific interventions that an LEA may implement is inconsistent with the intent of Congress as demonstrated by the increased flexibility in the selection and implementation of SIG-funded intervention models provided in the Consolidated Appropriations Act, 2014.

Changes: None.

Adding LEA Requirement To Demonstrate Appropriateness of Chosen Intervention Model and Take Into Consideration Family and Community Input

Comment: Many commenters supported proposed section I.A.4(a)(1), requiring an LEA to demonstrate the appropriateness of the chosen intervention model and to take into consideration family and community input in model selection. One commenter suggested that the Department require an LEA to demonstrate that it sought “broad-based” input from families and the community. Other commenters recommended requiring an LEA to engage and solicit input from all relevant stakeholders.

However, one commenter opposed requiring an LEA to demonstrate in its application how it will meaningfully engage families and the community in the implementation of its chosen intervention, warning that the need to provide evidence of parent investment up front could prevent successful alternative operators (which we interpret to mean external providers) from working with SIG schools.

Discussion: We appreciate the support for the requirements to demonstrate the appropriateness of the chosen intervention model and to take into consideration family and community input in the selection of the SIG model. However, we decline to set forth specific criteria that an LEA must meet to demonstrate family and community engagement, because the precise nature of such engagement may vary widely across different types of communities. However, we intend to provide guidance encouraging SEAs, in their review of the evidence of family and community engagement in an LEA's SIG application, to examine whether the LEA sought input from all relevant stakeholders, including, for example, those representing English learners and students with disabilities.

We do not agree that requiring a demonstration of parental involvement will prevent high-quality external providers from working with an LEA in SIG schools. In fact, we believe that the requirement that an LEA engage families and the community early in the process of planning its SIG intervention will result in increased transparency and accountability related to the selection of, and subsequent implementation by, external providers, which will help with implementing the model successfully.

Changes: None.

Adding LEA Requirement to Continuously Engage Families and the Community Throughout Implementation

Comment: Many commenters supported proposed section I.A.4(a)(8), requiring an LEA to demonstrate in its SIG application how the LEA will meaningfully engage families and the community in the implementation of its selected intervention. Several commenters recommended that the Department provide additional technical assistance and guidance on what constitutes meaningful family and community engagement. One commenter requested that we require that schools enter into joint use agreements with the community, for example with regard to sharing space. Another commenter recommended that the Department clarify that the purpose of engaging families and the community is to improve student achievement and healthy development. The commenter also recommended adding language throughout the requirements to emphasize that family and community engagement would be an element of each of the intervention models. One commenter recommended expanding the family and community engagement requirements to promote the role of community partners and intermediary organizations in school turnarounds, stating that such entities can provide expertise and capacity-building support essential to turning around low-performing schools.

Discussion: We agree that it is important that an LEA engage in meaningful family and community engagement, reach appropriate stakeholders, and ensure that the input the LEA receives is relevant and useful throughout the period of SIG implementation. We believe, however, that section I.A.4(a)(8) of the requirements, along with guidance that the Department will provide on this issue, will be sufficient to help ensure that an LEA engages in an ongoing and meaningful way with families and the community throughout the implementation of each SIG-funded intervention model. We also note that both the current and proposed requirements, including the requirements for each of the intervention models, provide ample flexibility for SIG grantees to partner with the broadest possible range of entities to obtain the support needed for successful implementation of their selected intervention models permitting, for example, specific interventions focused on improving student performance and encouraging healthy development of students. For these reasons, we decline to make the changes recommended by the commenters.

Changes: None.

Comment: One commenter recommended requiring an SEA to report on how a SIG grantee obtains and uses family input during the implementation of its intervention model.

Discussion: We believe that adding new reporting requirements related to family and community engagement would be unnecessarily burdensome because the data on family and community engagement lacks uniformity. We also believe that such an addition would be unnecessary because the new application requirements in section I.A.4(a)(1) related to family and community engagement are sufficient to ensure that LEAs meaningfully seek and incorporate this input into the selection and implementation of SIG-funded intervention models.

Changes: None.

Comment: One commenter requested clarification regarding whether the family and community engagement requirement in section I.A.2(d)(3)(A)(ii) under the transformation model differs from the family and community engagement requirement in section I.A.4(a)(8), which applies to all models.

Discussion: The provisions are the same. We elected to retain the separate requirement in the transformation model out of concern that removing it could leave the impression that the Department is no longer requiring family and community engagement under the transformation model.

Changes: None.

Adding LEA Requirement To Monitor and Support Intervention and Implementation

Comment: Several commenters supported proposed section I.A.4(a)(7), requiring an LEA to demonstrate how it will provide effective oversight and support for implementation of interventions in its schools. Some of these commenters requested guidance regarding the definition of “monitoring” in order to clarify what is required of LEAs, and one commenter questioned whether the requirement would be different for a charter LEA versus a traditional LEA. However, one commenter cautioned the Department not to specify how the monitoring and support should be conducted, stating that the approach will necessarily differ based on the context and capabilities of the LEA.

Discussion: We believe the proposed requirements, which would apply to regular and charter LEAs alike, sufficiently address an LEA's monitoring obligations in part because, as noted by the commenter, the monitoring approach will differ based on the context and capabilities of the LEA. However, we will work with SEAs to provide guidance and technical assistance to LEAs related to quality monitoring and the types of information SEAs and LEAs should consider in determining whether or not the LEA has adopted or should adopt a new governance structure.

Changes: None.

Adding LEA Requirements to Regularly Review External Providers' Performance and Hold External Providers Accountable

Comment: Several commenters supported proposed section I.A.4(a)(4), requiring an LEA to regularly review external providers' performance and hold external providers accountable. One commenter also recommended requiring evidence that the LEA will recruit, screen, select, and execute contracts with any providers by the start of the school year. Similarly, another commenter recommended that the Department encourage LEAs to develop performance metrics with all providers at the onset of the partnership. One commenter, while supportive of the requirements, expressed concern about the capacity of smaller LEAs to engage in appropriate oversight and to identify appropriate providers. Additionally, one commenter requested more guidance for schools and LEAs on this issue.

Discussion: We appreciate the support for requiring LEAs to hold external providers accountable for their performance.

We recognize that an LEA may not have identified the external provider it will use at the time it applies for a SIG award; consequently, under section I.A.4(a)(4), the LEA must demonstrate that it will recruit, screen, and select external providers to ensure their quality and regularly review and hold the external providers accountable. We believe this requirement is sufficient to ensure that an LEA uses external providers effectively. We also believe that most LEAs will use the pre-implementation or planning period to recruit and select external providers and develop the performance metrics against which the external provider will be evaluated. Moreover, under section I.A.4(a)(3), any external provider that will be used to implement the chosen SIG model must be in place on the first day of the first school year of full implementation.

We acknowledge that smaller LEAs may face capacity challenges and caution LEAs to assess their ability to hold external providers accountable before committing to use them. We believe, however that the significant amount of SIG funding available to implement the intervention models will help these LEAs overcome any such limitations.

We have previously issued guidance on external providers, available at http://www2.ed.gov/programs/sif/sigfaq-finalversion.doc. We intend to issue additional guidance to assist SEAs and LEAs in carrying out the requirements pertaining to external providers.

Changes: None.

Comment: One commenter requested clarification about which vendors the Department is referencing.

Discussion: We understand this comment to ask to which external providers the requirements apply. All external providers that an LEA uses to help implement any aspect of a SIG model, regardless of the model being implemented, are subject to section I.A.4(a)(4).

Changes: None.

Comment: One commenter opposed proposed section I.A.4(a)(4) regarding external providers out of apparent concern that it would change eligibility and could permit the award of SIG funds to entities other than school districts. This commenter stated that funds should flow from States to school districts.

Discussion: The commenter misunderstood the proposed requirement, as only LEAs with schools that meet the definition under I.A.1 are eligible for an award of SIG funds.

Changes: None.

Clarifying the Rigorous Review Process Under the Restart Model

Comment: Many commenters expressed support for the clarification of the rigorous review process in the restart model. One of these commenters asked that we require an LEA applying to implement the restart model to seek community input prior to choosing a charter operator. Another commenter recommended that we restrict selection of charter management organizations (CMOs) or education management organization (EMOs) further by prohibiting an LEA from contracting with a CMO or EMO with a track record of operating schools that do not improve student achievement or with significant compliance issues in the areas of civil rights, financial management, and student safety.

Discussion: We agree that an LEA implementing the restart model should seek family and community input prior to implementing the model. In fact, under section I.A.4(a)(1) of the requirements, an SEA must evaluate the extent to which an LEA demonstrates in its application for a SIG award that it took into consideration family and community input in selecting the intervention for each school. We believe this provision creates sufficient safeguards to ensure that the community is involved in the selection of an appropriate intervention in a school. Additionally, section I.A.2(b)(1) requires an LEA to consider the extent to which any schools currently operated or managed by the selected charter school operator, CMO, or EMO have produced strong results over the prior three years, which creates sufficient safeguards to ensure that the LEA takes appropriate steps to choose a high-quality CMO or EMO.

Changes: None.

Comment: One commenter asked the Department to clarify whether, under the rigorous review process, an LEA with eligible schools that is in corrective action could meet the new rigorous review requirements and serve as a CMO under the restart model.

Discussion: If an LEA can demonstrate that it has produced strong results over the past three years, despite being designated for corrective action, it may meet the requirements of the rigorous review process and serve as a CMO under the restart model. Such a demonstration may be possible, for example, for an LEA that has regularly raised student proficiency rates but still falls short of the 100 percent proficiency requirement under current law in a State that is not approved for ESEA flexibility.

Changes: None.

Defining “Greatest Need” To Include Priority Schools and Focus Schools for SEAs With Approved ESEA Flexibility Requests

Comment: Four commenters supported aligning the definition of “greatest need” with ESEA flexibility. One commenter recommended that the Department permit SEAs to limit SIG eligibility to priority schools only, in order to ensure that limited SIG funding is used in a State's lowest-achieving schools.

Discussion: We appreciate the support for aligning the eligibility provisions of the SIG requirements with ESEA flexibility for those SEAs with approved ESEA flexibility requests. As described in question I-9 of the March 1, 2012, SIG Guidance, available at http://www2.ed.gov/programs/sif/sigguidance03012012.doc, an SEA may create priorities within its application process to, for example, ensure an even distribution of urban and rural schools, incentivize evidence-based strategies, and encourage applications from LEAs without prior compliance issues.

With regard to the comment that we should permit an SEA to provide SIG funds to priority schools only, we note that under section II.B.7, an SEA must, in making funding decisions, give priority to LEAs with priority schools, and that under section II.A.7 an LEA must apply to serve all of its priority schools before it may apply to serve one or more focus schools. Accordingly, a focus school may be served under SIG only if the LEA in which it is located is already serving all of its priority schools (or the LEA has no priority schools) and the SEA has already funded all LEAs with priority schools that submit approvable SIG applications.

Changes: None.

Comment: One commenter requested clarification as to whether a priority school implementing a SIG intervention model may exit priority status while receiving SIG funds. Another commenter asked whether receipt of a SIG award releases the school from the State's priority school requirements and allows it to instead implement a SIG model.

Discussion: In general, a school receiving a SIG grant would be deemed to be meeting the priority school requirements of ESEA flexibility and would not have to begin or continue separate implementation of a priority school intervention under the State's approved ESEA flexibility request, unless the SEA has imposed additional requirements. A priority school that has begun implementing either a priority intervention or a SIG intervention may exit priority status but must continue to implement the intervention fully and effectively for the required three years, consistent with section II.A.4 of the requirements.

Changes: None.

Revising Reporting Requirements

Comment: Several commenters supported the proposal to replace the truancy data reporting requirement with a requirement to report data on “chronic absenteeism.” One commenter recommended that the Department hold LEAs and schools implementing SIG models accountable for addressing chronic absenteeism, such as by requiring LEAs to use the data to trigger action when students reach a certain threshold of absences.

Discussion: We appreciate the support for the change from truancy data to data on chronic absenteeism. We note that an LEA implementing a SIG model in a school may choose to use chronic absenteeism data to trigger specific interventions; for example, analyzing attendance data and using the results of the analysis to target interventions would be consistent with the expectation that each LEA implementing a SIG model in a school take steps to improve attendance rates at that school. We decline, however, to add this requirement to any of the models because we believe that each model offers a comprehensive approach to school turnaround, including through non-academic supports, and that therefore a separate requirement regarding attendance is not necessary.

Changes: None.

Comment: Many commenters recommended changing the chronic absenteeism measure from a certain number of days to a percentage of days enrolled, specifically from 15 days to 10 percent of days enrolled.

Discussion: We recognize that when absenteeism is being used for early intervention purposes, many authorities recommend that it is best measured as a percentage, comparing the days missed to the days of school already held. However, we have also determined that many LEAs can collect and report data on the number of days missed by each individual student more accurately than they can calculate percentages due to the nature of the data collection, and thus decline to change the proposed measure at this time. Nonetheless, the Department is continuing outreach and analysis to determine the most reliable, valid, and least burdensome chronic absenteeism metric and may modify the current measure in the future if it determines another measure, such as a percentage based measure, is more appropriate.

Changes: None.

Comment: One commenter recommended that the Department require LEAs to report school-level data by subgroup on the following metrics: (1) Graduation and dropout rates; (2) advanced course work participation rates; (3) college enrollment rates; (4) discipline incidents; and (5) chronic absenteeism rates. This commenter also recommended adding a metric for college persistence rates, as well as the number and percentage of students participating in advanced course work. Lastly, the commenter recommended that the metric for the distribution of teachers by performance level on an LEA's teacher evaluation system also include the distribution of teachers (1) in their first or second year of teaching; (2) for whom there is insufficient data to receive a rating within the LEA's teacher evaluation system; and (3) teaching outside of their certification area.

Discussion: We agree that disaggregated reporting of key participation, attainment, and outcome measures, along with information on the distribution of effective teachers, is a useful and important method for identifying disparities in educational opportunities and outcomes. However, we decline to require LEAs to report on the measures recommended by the commenter due to a combination of (1) concerns over the validity and reliability of reporting data on small populations, such as subgroups within a school or even a district; (2) the availability of data on postsecondary outcomes; and (3) a longstanding emphasis on minimizing data collection and reporting burdens on schools, LEAs, and SEAs.

Changes: None.

Comment: One commenter recommended that the Department use the Civil Rights Data Collection (CRDC) as the data source for discipline incidents rather than EDFacts. The commenter stated that using the CRDC data would reveal disparities in discipline rates among students of color and students with disabilities compared to their peers and provide more actionable data for schools in their school improvement efforts.

Discussion: We recognize the value of the detailed data collected and reported via the CRDC, including discipline data. However, because the CRDC is collected biannually, using CRDC data instead of EDFacts data would support less frequent analysis and use of data by schools implementing school improvement models.

Changes: None.

Requests To Add Additional Models

Comment: Many commenters submitted substantially similar requests to add a new “community schools” model to the list of models eligible for funding under the SIG program. Commenters generally defined this model as the leveraging of community resources to provide culturally relevant and rigorous curricula; extended-day instruction; wrap-around supports addressing the physical health, mental health, and social and emotional needs of students; effective professional development for all teachers and staff; positive discipline and social development practices; and strong family and community engagement. More than half of these commenters also recommended making community schools the only turnaround model eligible for SIG funding.

Discussion: We agree that the community schools concept can be an effective strategy for building broad support for comprehensive, community-based efforts to turn around low-performing schools. This is why, as noted by one commenter, the 2009 SIG requirements included the similar “community-oriented schools” strategy as a permissible element of the transformation model. Another commenter also recognized the integration of the community schools strategy into the transformation model, observing that the most frequently adopted model (the transformation model) is the one that most closely resembles the community schools concept. Moreover, we believe that the community schools approach is not only fully consistent with the transformation model, but also provides a framework for successful implementation of other existing SIG models, including the turnaround and restart models, as well as the new State-determined model. This is a key reason for the new requirement in section I.A.4(a)(8) that SEAs consider the extent to which an LEA's application for SIG funds, regardless of the model selected, demonstrates how the LEA will meaningfully engage families and the community throughout implementation.

We do not believe, however, that the community schools strategy, by itself, would be sufficient to ensure that communities and schools undertake the kind of rigorous, transformational changes required to break the cycle of failure in our lowest-performing schools and maximize the effective use of taxpayer dollars under the SIG program. SIG performance data suggest that the schools adopting the most rigorous interventions, such as changes in leadership and staffing under the turnaround model and new school management under the restart model, generate the highest gains in student achievement. For these reasons, we decline to make “community schools” a new model eligible for funding under the SIG program or to make it the sole model eligible for new SIG funds.

Changes: None.

Comment: One commenter recommended adding a new high school intervention model because, in the commenter's words, a high school diploma is the gateway to success and the ultimate goal of a K-12 education. This commenter reasoned that the proposed high school intervention model would ensure that high schools implement the strategies that are unique to them and necessary to address the misalignment between student outcomes and the needs of the twenty-first-century workforce. The commenter envisioned the high school intervention model requiring the alignment of reform between low-performing high schools and their feeder middle schools. Many of the requirements in the commenter's suggested model were similar to those in the current and newly proposed SIG models, such as: Job-embedded professional development; evaluation and support systems for teachers and principals that meet the requirements described in section I.A.2(d)(1)(A)(ii); and ILT, among others.

Discussion: We agree that graduating high school is a key to a successful career in the twenty-first century. We believe, however, that offering the commenter's proposed model would overlap with existing SIG models. In particular, there would be overlap with the transformation model, which has many of the same elements as the commenter's suggested high school intervention model. If an SEA wanted to implement a model based on the commenter's high school intervention model, it could do so under the transformation model.

Changes: None.

Request To Add New Evidence of “Strongest Commitment”

Comment: One commenter recommended revising the evidence of strongest commitment requirement in section I.A.4(a) to include a focus on school leadership. More specifically, the commenter suggested requiring LEAs to describe the steps they will take to review the capacity of the school leader, as well as activities designed to build capacity, to lead a successful turnaround prior to full implementation of the selected intervention model. Another commenter requested clarification that the turnaround leader may be someone other than the principal.

Discussion: The requirements regarding school leadership vary among the intervention models eligible for funding under the SIG program. The turnaround and transformation models require principal replacement in recognition of the key role played by principals in leading instruction and creating a positive school culture. The restart model relies on dramatic changes in school management and leadership by a high-quality charter school operator, CMO, or EMO. The new evidence-based model may not necessarily involve changes in school leadership. With the limited exception of the State-determined model, the emphasis is on identifying a new school leader who already has demonstrated capacity to lead a school turnaround, and not on building such capacity during the planning or pre-implementation phase of a SIG grant. For this reason, we decline to make the change to section I.A.4(a) recommended by the commenter. We also note that there is nothing in the final requirements that prevents someone other than the principal from serving as the turnaround leader in a SIG school.

Changes: None.

Promoting Evidence-Based Strategies

Comment: One commenter recommended requiring that an SEA give priority in making SIG awards to applicants proposing to implement strategies proven to be effective. Other commenters recommended that the Department require LEAs to demonstrate that their proposed strategies are supported by evidence of effectiveness.

Discussion: We agree that SEAs should take into account the extent to which LEA applications for SIG funds include one or more strategies supported by evidence of effectiveness. Accordingly, we are revising section I.A.4(a) of the final requirements to require SEAs to consider such evidence in determining which LEAs have “the strongest commitment” to the effective use of SIG funds and section II.B to allow SEAs to prioritize LEAs that have demonstrated the greatest evidence base for their proposed strategies if funding is not sufficient to permit awards to all LEAs with approvable applications.

Changes: We have made three changes in the final requirements to address this comment. First, we added in section I.A.4(a)(13) (Evidence of strongest commitment) a requirement that the SEA, when considering the strength of the LEA's commitment, evaluate the extent to which an LEA demonstrates that it will implement, to the extent practicable, one or more evidence-based strategies (as defined in this notice). We have also added in section II.B.9(b) a requirement that, if an SEA does not have sufficient SIG funds to make awards to each LEA with eligible schools, the SEA may take into account the extent to which an LEA applying for a SIG award demonstrates in its application that it will implement one or more evidence-based strategies (as defined in this notice). Finally, in section I.A.3 we defined “evidence-based strategy” to mean a strategy supported by at least “moderate evidence of effectiveness” as defined in 34 CFR 77.1.

New Specific Improvement Strategies

Comment: Multiple commenters recommended the use of specific improvement strategies as part of the SIG program, including: offering a comprehensive summer program to students in the bottom quintile of academic performance; promoting the acquisition of 21st century skills; partnering with community-based organizations to provide additional resources and support, including before- and after-school and summer learning programs; aggregating performance data across models to support the identification of best practices, as well as the calculation of the return on investment for each model; providing additional supports to principals; purchasing technology to support a blended learning environment; providing job-embedded professional development; expanding support for charter schools; allowing magnet schools; promoting student health and school climate; strengthening current leadership and staff in turnaround schools; district-level direction in supporting the implementation of the transformation model; expanding the list of partnerships permitted under the transformation model to include behavioral and mental health agencies and providers; references to high-quality digital content and services and community-based public media outlets; greater attention to meeting students' emotional and behavioral needs; requiring data systems that track a broad range of student outcomes; and specific requirements related to a comprehensive needs assessment by LEA applicants for SIG funds.

Discussion: Nearly all of the activities and approaches recommended by the commenters are already either required or permitted under one or more of the intervention models eligible for funding under the SIG program. For example, an LEA could convert a SIG school into a magnet school, which may promote college and career readiness as well as more diverse and integrated classrooms, while still meeting all other SIG model requirements. The Department continues to endeavor to strike the right balance between rigor and flexibility in the SIG program, viewing each as equally important to the development and implementation of successful school turnaround plans. For this reason, we decline to reduce State and local discretion by adding specific requirements in the areas suggested by the commenters. We intend, however, to issue guidance that will assist SEAs and LEAs in better understanding the broad spectrum of allowable activities and uses of SIG funds.

Changes: None.

Impact of Regulatory Changes on Existing Grantees

Comment: One commenter requested that the Department clarify the impact of these requirements on existing grantees, including the use of new models.

Discussion: We intend to clarify the impact of these final requirements on existing grantees through new non-regulatory guidance. In general, we anticipate that most new requirements, including the availability of new intervention models, will apply to new SIG awards made by States with FY 2014 SIG funds. Such application of the new requirements is consistent with the fact that key changes in this notice were required in large part by the Consolidated Appropriations Act, 2014. One exception to the general rule that the new requirements will apply only to new SIG subgrantees would be that current SIG subgrantees may under certain circumstances be able to avail themselves of continued implementation and sustainability awards under the expanded five-year award period authorized by the Consolidated Appropriations Act, 2014, and implemented through these final requirements.

Changes: None.

Excessive Regulation

Comment: Two commenters expressed general concerns about the complexity and potential administrative burden of the proposed requirements, stating that they would inhibit locally driven innovation and that the Department should regulate only where absolutely necessary.

Discussion: The Secretary agrees with the commenters on the importance of ensuring that the Department regulate only where necessary, in the least burdensome manner possible, and that special care be taken to avoid potential barriers to State and local creativity and innovation in the use of SIG funds to turn around the Nation's lowest-performing schools. The regulatory action was undertaken only in response to new legislation in the Consolidated Appropriations Act, 2014, establishing a number of new requirements for the SIG program. After careful review of the new requirements, the Department determined that new regulations were required to ensure that the requirements would be implemented in the least burdensome and most effective manner possible, consistent with congressional intent. We also made other minor changes to existing SIG regulations aimed at clarifying State and local responsibilities in the administration of the SIG program, while also eliminating certain provisions determined to be outdated or obsolete. In the case of each new requirement, the Department considered whether the desired outcome could be achieved through regulation or non-regulatory guidance, choosing to add regulatory language only where necessary.

Changes: None.

Requested Changes to Requirements Outside the Scope of the NPR

Comments: Several commenters asked the Department to change existing requirements that we did not propose to change in the NPR.

Discussion: These commenters requested that the Department make changes to SIG program requirements that were not proposed for change in the NPR. However, we stated in the NPR that we were requesting comments on the proposed revisions rather than all of the SIG program requirements. We therefore will not respond to comments on requirements that were unchanged by the NPR, as they are outside the scope of this rulemaking.

Changes: None.

Final Requirements

The Assistant Secretary for Elementary and Secondary Education establishes the following requirements for the SIG program. The Assistant Secretary may use these requirements for any year in which funds are appropriated for SIG authorized under 1003(g) of the ESEA:

I. SEA Priorities in Awarding School Improvement Grants

A. Defining key terms. To award School Improvement Grants to its LEAs, consistent with section 1003(g)(6) of the ESEA, an SEA must select those LEAs with the greatest need for such funds, in accordance with the requirements in paragraph I.A.1. From among the LEAs in greatest need, the SEA must select, in accordance with paragraph I.A.2, those LEAs that demonstrate the strongest commitment to ensuring that the funds are used to provide adequate resources to enable the lowest-achieving schools to improve academic achievement. Key terms are defined as follows:

1. Greatest need. An LEA with the greatest need for a School Improvement Grant must have one or more schools in at least one of the categories described in section I.A.1(a)-(c), except that an LEA with the greatest need for a School Improvement Grant in a State with an approved ESEA flexibility request must have one or more schools in at least one of the categories described in section I.A.1(d)-(e):

(a) Tier I schools:

(1) A Tier I school is a title I school in improvement, corrective action, or restructuring that is identified by the SEA under paragraph (a)(1) of the definition of “persistently lowest-achieving schools.”

(2) At its option, an SEA may also identify as a Tier I school an elementary school that is eligible for title I, Part A funds that—

(A)(i) Has not made adequate yearly progress for at least two consecutive years; or

(ii) Is in the State's lowest quintile of performance based on proficiency rates on the State's assessments under section 1111(b)(3) of the ESEA in reading/language arts and mathematics combined; and

(B) Is no higher achieving than the highest-achieving school identified by the SEA under paragraph (a)(1)(A) of the definition of “persistently lowest-achieving schools.”

(b) Tier II schools:

(1) A Tier II school is a secondary school that is eligible for, but does not receive, title I, Part A funds and is identified by the SEA under paragraph (a)(2) of the definition of “persistently lowest-achieving schools.”

(2) At its option, an SEA may also identify as a Tier II school a secondary school that is eligible for title I, Part A funds that—

(A)(i) Has not made adequate yearly progress for at least two consecutive years; or

(ii) Is in the State's lowest quintile of performance based on proficiency rates on the State's assessments under section 1111(b)(3) of the ESEA in reading/language arts and mathematics combined; and

(B)(i) Is no higher achieving than the highest-achieving school identified by the SEA under paragraph (a)(2)(A) of the definition of “persistently lowest-achieving schools”; or

(ii) Is a high school that has had a graduation rate as defined in 34 CFR 200.19(b) that is less than 60 percent over a number of years.

(c) Tier III schools:

(1) A Tier III school is a title I school in improvement, corrective action, or restructuring that is not a Tier I or a Tier II school.

(2) At its option, an SEA may also identify as a Tier III school a school that is eligible for title I, Part A funds that—

(A)(i) Has not made adequate yearly progress for at least two years; or

(ii) Is in the State's lowest quintile of performance based on proficiency rates on the State's assessments under section 1111(b)(3) of the ESEA in reading/language arts and mathematics combined; and

(B) Does not meet the requirements to be a Tier I or Tier II school.

(3) An SEA may establish additional criteria to use in setting priorities among LEA applications for funding and to encourage LEAs to differentiate among Tier III schools in their use of School Improvement Grants funds.

(d) Priority schools: A priority school is a school identified as a priority school pursuant to an SEA's approved ESEA flexibility request and consistent with the ESEA flexibility definition of “priority school.” ⁴

⁴ A “priority school” is defined as a school that, based on the most recent data available, has been identified as among the lowest-performing schools in the State. The total number of priority schools in a State must be at least five percent of the title I schools in the State. A priority school is—

A school among the lowest five percent of title I schools in the State based on the achievement of the “all students” group in terms of proficiency on the statewide assessments that are part of the SEA's differentiated recognition, accountability, and support system, combined, and has demonstrated a lack of progress on those assessments over a number of years in the “all students” group;

A title I-participating or title I-eligible high school with a graduation rate less than 60 percent over a number of years; or

A Tier I or Tier II school under the SIG program that is using SIG funds to implement a school intervention model.

(e) Focus schools: A focus school is a school identified as a focus school pursuant to an SEA's approved ESEA flexibility request and consistent with the ESEA flexibility definition of “focus school.” ⁵

⁵ A “focus school” is defined as a title I school in the State that, based on the most recent data available, is contributing to the achievement gap in the State. The total number of focus schools in a State must equal at least 10 percent of the title I schools in the State. A focus school is—

A school that has the largest within-school gaps between the highest-achieving subgroup or subgroups and the lowest-achieving subgroup or subgroups or, at the high school level, has the largest within-school gaps in graduation rates; or

A school that has a subgroup or subgroups with low achievement or, at the high school level, low graduation rates.

An SEA must also identify as a focus school a title I high school with a graduation rate less than 60 percent over a number of years that is not identified as a priority school.

These determinations must be based on the achievement and lack of progress over a number of years of one or more subgroups of students identified under ESEA section 1111(b)(2)(C)(v)(II) in terms of proficiency on the statewide assessments that are part of the SEA's differentiated recognition, accountability, and support system, combined, or, at the high school level, graduation rates for one or more subgroups.

2. Strongest commitment. An LEA with the strongest commitment is an LEA that agrees to implement, and demonstrates the capacity to implement fully and effectively, one of the following rigorous interventions in each Tier I and Tier II school or, for an SEA with an approved ESEA flexibility request, each priority and focus school, that the LEA commits to serve:

(a) Turnaround model:

(1) A turnaround model is one in which an LEA must implement each of the following elements:

(A) Replace the principal and grant the principal sufficient operational flexibility (including in staffing, calendars/time, and budgeting) to implement fully each element of the turnaround model.

(B) Using locally adopted competencies to measure the effectiveness of staff who can work within the turnaround environment to meet the needs of students—

(i) Screen all existing staff and rehire no more than 50 percent; and

(ii) Select new staff.

(C) Implement such strategies as financial incentives, increased opportunities for promotion and career growth, and more flexible work conditions that are designed to recruit, place, and retain staff with the skills necessary to meet the needs of the students in the turnaround school.

(D) Provide staff ongoing, high-quality, job-embedded professional development that is aligned with the school's comprehensive instructional program and designed with school staff to ensure that they are equipped to facilitate effective teaching and learning and have the capacity to successfully implement school reform strategies.

(E) Adopt a new governance structure, which may include, but is not limited to, requiring the school to report to a new “turnaround office” in the LEA or SEA, hire a “turnaround leader” who reports directly to the Superintendent or Chief Academic Officer, or enter into a multi-year contract with the LEA or SEA to obtain added flexibility in exchange for greater accountability.

(F) Use data to identify and implement an instructional program that is research-based and vertically aligned from one grade to the next as well as aligned with State academic standards.

(G) Promote the continuous use of student data (such as from formative, interim, and summative assessments) to inform and differentiate instruction in order to meet the academic needs of individual students.

(H) Establish schedules and implement strategies that provide increased learning time (as defined in these requirements).

(I) Provide appropriate social-emotional and community-oriented services and supports for students.

(2) A turnaround model may also implement other strategies such as—

(A) Any of the required and permissible activities under the transformation model; or

(B) A new school model (e.g., themed, dual language academy).

(b) Restart model:

(1) A restart model is one in which an LEA converts a school or closes and reopens a school under a charter school operator, a charter management organization (CMO), or an education management organization (EMO) that has been selected through a rigorous review process. (A CMO is a non-profit organization that operates or manages charter schools by centralizing or sharing certain functions and resources among schools. An EMO is a for-profit or non-profit organization that provides “whole-school operation” services to an LEA.) The rigorous review process must include a determination by the LEA that the selected charter school operator, CMO, or EMO is likely to produce strong results for the school. In making this determination, the LEA must consider the extent to which the schools currently operated or managed by the selected charter school operator, CMO, or EMO, if any, have produced strong results over the past three years (or over the life of the school, if the school has been open for fewer than three years), including—

(A) Significant improvement in academic achievement for all of the groups of students described in section 1111(b)(2)(C)(v) of the ESEA;

(B) Success in closing achievement gaps, either within schools or relative to all public elementary school and secondary school students statewide, for all of the groups of students described in section 1111(b)(2)(C)(v)(II) of the ESEA;

(C) High school graduation rates, where applicable, that are above the average rates in the State for the groups of students described in section 1111(b)(2)(C)(v) of the ESEA; and

(D) No significant compliance issues, including in the areas of civil rights, financial management, and student safety;

(2) A restart model must enroll, within the grades it serves, any former student who wishes to attend the school.

(c) School closure: School closure occurs when an LEA closes a school and enrolls the students who attended that school in other schools in the LEA that are higher achieving. These other schools should be within reasonable proximity to the closed school and may include, but are not limited to, charter schools or new schools for which achievement data are not yet available.

(d) Transformation model: A transformation model is one in which an LEA implements each of the following elements:

(1) Developing and increasing teacher and school leader effectiveness.

(A) Required activities. The LEA must—

(i) Replace the principal who led the school prior to commencement of the transformation model;

(ii) Implement rigorous, transparent, and equitable evaluation and support systems for teachers and principals, designed and developed with teacher and principal involvement, that—

(1) Will be used for continual improvement of instruction;

(2) Meaningfully differentiate performance using at least three performance levels;

(3) Use multiple valid measures in determining performance levels, including as a significant factor data on student growth (as defined in these requirements) for all students (including English learners and students with disabilities), and other measures of professional practice (which may be gathered through multiple formats and sources), such as observations based on rigorous teacher performance standards, teacher portfolios, and student and parent surveys;

(4) Evaluate teachers and principals on a regular basis;

(5) Provide clear, timely, and useful feedback, including feedback that identifies needs and guides professional development; and

(6) Will be used to inform personnel decisions.

(iii) Use the teacher and principal evaluation and support system described in section I.A.2(d)(1)(A)(ii) of these requirements to identify and reward school leaders, teachers, and other staff who, in implementing this model, have increased student achievement and high school graduation rates and identify and remove those who, after ample opportunities have been provided for them to improve their professional practice, have not done so; and

(iv) Implement such strategies as financial incentives, increased opportunities for promotion and career growth, and more flexible work conditions that are designed to recruit, place, and retain staff with the skills necessary to meet the needs of students in the school, taking into consideration the results from the teacher and principal evaluation and support system described in section I.A.2(d)(1)(A)(ii) of these requirements, if applicable.

(B) Permissible activities. An LEA may also implement other strategies to develop teachers' and school leaders' effectiveness, such as—

(i) Providing additional compensation to attract and retain staff with the skills necessary to meet the needs of the students in a transformation school;

(ii) Instituting a system for measuring changes in instructional practices resulting from professional development; or

(iii) Ensuring that the school is not required to accept a teacher without the mutual consent of the teacher and principal, regardless of the teacher's seniority.

(2) Comprehensive instructional reform strategies.

(A) Required activities. The LEA must—

(i) Use data to identify and implement an instructional program that is research-based and vertically aligned from one grade to the next as well as aligned with State academic standards;

(ii) Promote the continuous use of student data (such as from formative, interim, and summative assessments) to inform and differentiate instruction in order to meet the academic needs of individual students; and

(iii) Provide staff ongoing, high-quality, job-embedded professional development (e.g., regarding subject-specific pedagogy, instruction that reflects a deeper understanding of the community served by the school, or differentiated instruction) that is aligned with the school's comprehensive instructional program and designed with school staff to ensure they are equipped to facilitate effective teaching and learning and have the capacity to implement successfully school reform strategies.

(B) Permissible activities. An LEA may also implement comprehensive instructional reform strategies, such as—

(i) Conducting periodic reviews to ensure that the instruction is implemented with fidelity to the selected curriculum, is having the intended impact on student achievement, and is modified if ineffective;

(ii) Implementing a schoolwide “response-to-intervention” model;

(iii) Providing additional supports and professional development to teachers and principals in order to implement effective strategies to support students with disabilities in the least restrictive environment and to ensure that English learners acquire language skills to master academic content;

(iv) Using and integrating technology-based supports and interventions as part of the instructional program; and

(v) In secondary schools—

(1) Increasing rigor by offering opportunities for students to enroll in advanced coursework (such as Advanced Placement; International Baccalaureate; or science, technology, engineering, and mathematics courses, especially those that incorporate rigorous and relevant project-, inquiry-, or design-based contextual learning opportunities), early-college high schools, dual enrollment programs, or thematic learning academies that prepare students for college and careers, including by providing appropriate supports designed to ensure that low-achieving students can take advantage of these programs and coursework;

(2) Improving student transition from middle to high school through summer transition programs or freshman academies;

(3) Increasing graduation rates through, for example, credit-recovery programs, re-engagement strategies, smaller learning communities, competency-based instruction and performance-based assessments, and acceleration of basic reading and mathematics skills; or

(4) Establishing early-warning systems to identify students who may be at risk of failing to achieve to high standards or graduate.

(3) Increasing learning time and creating community-oriented schools.

(A) Required activities. The LEA must—

(i) Establish schedules and strategies that provide increased learning time (as defined in these requirements); and

(ii) Provide ongoing mechanisms for family and community engagement.

(B) Permissible activities. An LEA may also implement other strategies that extend learning time and create community-oriented schools, such as—

(i) Partnering with parents and parent organizations, faith- and community-based organizations, health clinics, other State or local agencies, and others to create safe school environments that meet students' social, emotional, and health needs;

(ii) Extending or restructuring the school day so as to add time for such strategies as advisory periods that build relationships between students, faculty, and other school staff;

(iii) Implementing approaches to improve school climate and discipline, such as implementing a system of positive behavioral supports or taking steps to eliminate bullying and student harassment; or

(iv) Expanding the school program to offer full-day kindergarten or pre-kindergarten.

(4) Providing operational flexibility and sustained support.

(A) Required activities. The LEA must—

(i) Give the school sufficient operational flexibility (such as staffing, calendars/time, and budgeting) to implement fully each element of the transformation model to substantially improve student achievement outcomes and increase high school graduation rates; and

(ii) Ensure that the school receives ongoing, intensive technical assistance and related support from the LEA, the SEA, or a designated external lead partner organization (such as a school turnaround organization or an EMO).

(B) Permissible activities. The LEA may also implement other strategies for providing operational flexibility and intensive support, such as—

(i) Allowing the school to be run under a new governance arrangement, such as a turnaround division within the LEA or SEA; or

(ii) Implementing a per-pupil, school-based budget formula that is weighted based on student needs.

(e) Evidence-based, whole-school reform model: An evidence-based, whole-school reform model—

(1) Is supported by evidence of effectiveness, which must include at least one study of the model that—

(A) Meets What Works Clearinghouse evidence standards with or without reservations; ⁶

⁶ What Works Clearinghouse Procedures and Standards Handbook (Version 3.0), which can currently be found at the following link: http://ies.ed.gov/ncee/wwc/pdf/reference_resources/wwc_procedures_v3_0_standards_handbook.pdf.

(B) Found a statistically significant favorable impact on a student academic achievement or attainment outcome, with no statistically significant and overriding unfavorable impacts on that outcome for relevant populations in the study or in other studies of the intervention reviewed by and reported on by the What Works Clearinghouse; and

(C) If meeting What Works Clearinghouse evidence standards with reservations, includes a large sample and a multi-site sample as defined in 34 CFR 77.1 (Note: multiple studies can cumulatively meet the large and multi-site sample requirements so long as each study meets the other requirements in this section);

(2) Is a whole-school reform model as defined in these requirements; and

(3) Is implemented by the LEA in partnership with a whole-school reform model developer as defined in these requirements.

(f) Early learning model: An LEA implementing the early learning model in an elementary school must—

(1) Implement each of the following early learning strategies—

(A) Offer full-day kindergarten;

(B) Establish or expand a high-quality preschool program (as defined in these requirements);

(2) Provide educators, including preschool teachers, with time for joint planning across grades to facilitate effective teaching and learning and positive teacher-student interactions;

(3) Replace the principal who led the school prior to commencement of the early learning model;

(4) Implement rigorous, transparent, and equitable evaluation and support systems for teachers and principals, designed and developed with teacher and principal involvement, that meet the requirements described in section I.A.2(d)(1)(A)(ii);

(5) Use the teacher and principal evaluation and support system described in section I.A.2(d)(1)(A)(ii) of these requirements to identify and reward school leaders, teachers, and other staff who, in implementing this model, have increased student achievement and identify and remove those who, after ample opportunities have been provided for them to improve their professional practice, have not done so;

(6) Implement such strategies as financial incentives, increased opportunities for promotion and career growth, and more flexible work conditions that are designed to recruit, place, and retain staff with the skills necessary to meet the needs of students in the school, taking into consideration the results from the teacher and principal evaluation and support system described in section I.A.2(d)(1)(A)(ii) of these requirements, if applicable;

(7) Use data to identify and implement an instructional program that—

(A) Is research-based, developmentally appropriate, and vertically aligned from one grade to the next as well as aligned with State early learning and development standards and State academic standards; and

(B) In the early grades, promotes the full range of academic content across domains of development, including math and science, language and literacy, socio-emotional skills, self-regulation, and executive functions;

(8) Promote the continuous use of student data (such as from formative, interim, and summative assessments) to inform and differentiate instruction in order to meet the educational and developmental needs of individual students; and

(9) Provide staff ongoing, high-quality, job-embedded professional development such as coaching and mentoring (e.g., regarding subject-specific pedagogy, instruction that reflects a deeper understanding of the community served by the school, or differentiated instruction) that is aligned with the school's comprehensive instructional program and designed with school staff to ensure they are equipped to facilitate effective teaching and learning and have the capacity to implement successfully school reform strategies.

(g) Approved State-determined model: An LEA may implement an intervention developed or adopted by its SEA that has been approved by the Secretary, consistent with section II.B.1(b).

3. Definitions.

Evidence-based strategy means a strategy supported by at least moderate evidence of effectiveness as defined in 34 CFR 77.1.

High-quality preschool program means an early learning program that includes structural elements that are evidence-based and nationally recognized as important for ensuring program quality, including at a minimum—

(a) High staff qualifications, including a teacher with a bachelor's degree in early childhood education or a bachelor's degree in any field with a State-approved alternate pathway, which may include coursework, clinical practice, and evidence of knowledge of content and pedagogy relating to early childhood, and teaching assistants with appropriate credentials;

(b) High-quality professional development for all staff;

(c) A child-to-instructional staff ratio of no more than 10 to 1;

(d) A class size of no more than 20 with, at a minimum, one teacher with high staff qualifications as outlined in paragraph (a) of this definition;

(e) A full-day program;

(f) Inclusion of children with disabilities to ensure access to and full participation in all opportunities;

(g) Developmentally appropriate, culturally and linguistically responsive instruction and evidence-based curricula, and learning environments that are aligned with the State early learning and development standards, for at least the year prior to kindergarten entry;

(h) Individualized accommodations and supports so that all children can access and participate fully in learning activities;

(i) Instructional staff salaries that are comparable to the salaries of local K-12 instructional staff;

(j) Program evaluation to ensure continuous improvement;

(k) On-site or accessible comprehensive services for children and community partnerships that promote families' access to services that support their children's learning and development; and

(l) Evidence-based health and safety standards.

Increased learning time means using a longer school day, week, or year schedule to significantly increase the total number of school hours to include additional time for—

(a) Instruction in one or more core academic subjects, including English, reading or language arts, mathematics, science, foreign languages, civics and government, economics, arts, history, and geography;

(b) Instruction in other subjects and enrichment activities that contribute to a well-rounded education, including, for example, physical education, service learning, and experiential and work-based learning opportunities that are provided by partnering, as appropriate, with other organizations; and

(c) Teachers to collaborate, plan, and engage in professional development within and across grades and subjects.⁷

⁷ Evidence from the field shows that increasing learning time in a strategic, high-quality manner is often a key element of successful school turnaround. See “The Case for Improving and Expanding Time in School: A Review of Key Research and Practice, available at www.timeandlearning.org/files/CaseforMoreTime_1.pdf.” National Center on Time and Learning, April 2012.

Persistently lowest-achieving schools means, as determined by the State—

(a)(1) Any title I school in improvement, corrective action, or restructuring that—

(A) Is among the lowest-achieving five percent of title I schools in improvement, corrective action, or restructuring or the lowest-achieving five title I schools in improvement, corrective action, or restructuring in the State, whichever number of schools is greater; or

(B) Is a high school that has had a graduation rate as defined in 34 CFR 200.19(b) that is less than 60 percent over a number of years; and

(2) Any secondary school that is eligible for, but does not receive, title I funds that—

(A) Is among the lowest-achieving five percent of secondary schools or the lowest-achieving five secondary schools in the State that are eligible for, but do not receive, title I funds, whichever number of schools is greater; or

(B) Is a high school that has had a graduation rate as defined in 34 CFR 200.19(b) that is less than 60 percent over a number of years.

(b) To identify the lowest-achieving schools, a State must take into account both—

(1) The academic achievement of the “all students” group in a school in terms of proficiency on the State's assessments under section 1111(b)(3) of the ESEA in reading/language arts and mathematics combined; and

(2) The school's lack of progress on those assessments over a number of years for the “all students” group.

Student growth means the change in student achievement for an individual student between two or more points in time. For the purpose of this definition, student achievement means—

(a) For grades and subjects in which assessments are required under section 1111(b)(3) of the ESEA, a student's score on such assessments and may include other measures of student learning, such as those described in paragraph (b) of this definition, provided they are rigorous and comparable across schools within an LEA.

(b) For grades and subjects in which assessments are not required under section 1111(b)(3) of the ESEA, alternative measures of student learning and performance, such as student results on pre-tests, end-of-course tests, and objective performance-based assessments; student learning objectives; student performance on English language proficiency assessments; and other measures of student achievement that are rigorous and comparable across schools within an LEA.

Whole-school reform model means a model that is designed to—

(a) Improve student academic achievement or attainment;

(b) Be implemented for all students in a school; and

(c) Address, at a minimum and in a comprehensive and coordinated manner, each of the following:

(1) School leadership.

(2) Teaching and learning in at least one full academic content area (including professional learning for educators).

(3) Student non-academic support.

(4) Family and community engagement.

Whole-school reform model developer means an entity or individual that—

(a) Maintains proprietary rights for the model; or

(b) If no entity or individual maintains proprietary rights for the model, has a demonstrated record of success in implementing a whole-school reform model (as defined in these requirements) and is selected through a rigorous review process that includes a determination that the entity or individual is likely to produce strong results for the school.

4. Evidence of strongest commitment.

(a) In determining the strength of an LEA's commitment to ensuring that School Improvement Grants funds are used to provide adequate resources to enable Tier I, Tier II, priority, and focus schools to improve student achievement substantially, an SEA must consider, at a minimum, the extent to which the LEA's application demonstrates that the LEA has taken, or will take, action to—

(1) In selecting the intervention for each eligible school—

(A) Ensure that the selected intervention is designed to meet the specific needs of the school, based on a needs analysis that, among other things, analyzes the needs identified by families and the community; and

(B) Take into consideration family and community input.

(2) Design and implement interventions consistent with these requirements;

(3) Use the School Improvement Grants funds to provide adequate resources and related support to each school it commits to serve in order to implement fully and effectively the selected intervention on the first day of the first school year of full implementation;

(4) Recruit, screen, and select external providers, if applicable, to ensure their quality, and regularly review and hold accountable such providers for their performance;

(5) Align other resources with the selected intervention;

(6) Modify its practices or policies, if necessary, to enable it to implement the selected intervention fully and effectively;

(7) Provide effective oversight and support for implementation of the selected intervention for each school it proposes to serve, such as by creating an LEA turnaround office;

(8) Meaningfully engage families and the community in the implementation of the selected intervention on an ongoing basis;

(9) For an LEA eligible for services under subpart 1 or 2 of part B of title VI of the ESEA that chooses to modify one element of the turnaround or transformation model under section I.B.6 of these requirements, meet the intent and purpose of that element;

(10) For an LEA that applies to implement an evidence-based, whole-school reform model in one or more eligible schools—

(A) Implement a model with evidence of effectiveness that includes a sample population or setting similar to the population or setting of the school to be served; and

(B) Partner with a whole-school reform model developer, as defined in these requirements;

(11) For an LEA that applies to implement the restart model in one or more eligible schools, conduct a rigorous review process, as described in section I.A.2(b), of the charter school operator, CMO, or EMO that it has selected to operate or manage the school or schools;

(12) Sustain the reforms after the funding period ends; and

(13) Implement, to the extent practicable, in accordance with its selected SIG intervention model, one or more evidence-based strategies (as defined in this notice).

(b) The SEA must consider the LEA's capacity to implement the interventions and may approve the LEA to serve only those Tier I, Tier II, priority, and focus schools for which the SEA determines that the LEA can implement fully and effectively one of the interventions.

B. Providing flexibility.

1. An SEA may award School Improvement Grants funds to an LEA for a Tier I, Tier II, priority, or focus school that has implemented, in whole or in part, an intervention that meets the requirements under section I.A.2(a), 2(b), 2(d), 2(e), 2(f), or 2(g) of these requirements during the school year in which the LEA applies for School Improvement Grants funds or during the two school years prior to the school year in which the LEA applies for School Improvement Grants funds, so that the LEA and school can continue or complete the intervention being implemented in that school.

2. An SEA may seek a waiver from the Secretary of the requirements in section 1116(b) of the ESEA in order to permit a Tier I or Tier II title I participating school implementing an intervention that meets the requirements under section I.A.2(a), 2(b), 2(d), 2(e), 2(f), or 2(g) of these requirements in an LEA that receives a School Improvement Grant to “start over” in the school improvement timeline. Even though a school implementing the waiver would no longer be in improvement, corrective action, or restructuring, it may receive School Improvement Grants funds.

3. An SEA may seek a waiver from the Secretary to enable a Tier I or Tier II title I participating school that is ineligible to operate a title I schoolwide program and is operating a title I targeted assistance program to operate a schoolwide program in order to implement an intervention that meets the requirements under section I.A.2(a), 2(b), 2(d), 2(e), 2(f), or 2(g) of these requirements.

4. An SEA may seek a waiver from the Secretary to extend the period of availability of School Improvement Grants funds so as to make those funds available to the SEA and its LEAs for up to five years.

5. If an SEA does not seek a waiver under section I.B.2, 3, or 4, an LEA may seek a waiver.

6. An LEA eligible for services under subpart 1 or 2 of part B of title VI of the ESEA may modify one element of the turnaround or transformation model so long as the modification meets the intent and purpose of the original element, in accordance with section I.A.4(a)(9) of these requirements.

II. Awarding School Improvement Grants to LEAs

A. LEA requirements.

1. An LEA may apply for a School Improvement Grant if it receives title I, Part A funds and has one or more schools that qualify under the State's definition of a “Tier I,” “Tier II,” “Tier III,” “priority,” or “focus” school.

2. In its application, in addition to other information that the SEA may require, the LEA must—

(a) Identify the schools it commits to serve;

(b) Identify the intervention it will implement in each Tier I, Tier II, priority, and focus school it commits to serve;

(c) Provide evidence of its strong commitment to use School Improvement Grants funds to implement the selected intervention by addressing the factors in section I.A.4(a) of these requirements;

(d) Include a timeline delineating the steps the LEA will take to implement the selected intervention in each school identified in the LEA's application; and

(e) Include a budget indicating how it will allocate School Improvement Grants funds among the schools it commits to serve that is of sufficient size and scope and that:

(1) For each Tier I, Tier II, priority, and focus school the LEA commits to serve, ensures that the LEA can implement one of the interventions identified in sections I.A.2(a)-(b) or sections I.A.2(d)-(g) of these requirements for a minimum of three years and no more than five years; and

(2) For each Tier III school the LEA commits to serve, includes the services it will provide the school, particularly if the school meets additional criteria established by the SEA, for a minimum of three years and no more than five years.

3. An LEA that intends to use the first year of its School Improvement Grants award for planning and other pre-implementation activities for an eligible school must include in its application to the SEA a description of the activities, the timeline for implementing those activities, and a description of how those activities will lead to successful implementation of the selected intervention.

4. The LEA must serve:

(a) In an SEA with an approved ESEA flexibility request, each priority school unless the LEA demonstrates that it lacks sufficient capacity to undertake one of the interventions described in section I.A.2 of these requirements in each priority school, in which case the LEA must indicate the priority schools that it can effectively serve. An LEA may not serve with School Improvement Grants funds awarded under section 1003(g) of the ESEA a priority or focus school in which it does not implement one of the interventions identified in section I.A.2 of these requirements.

(b) In all other SEAs, each Tier I school unless the LEA demonstrates that it lacks sufficient capacity (which may be due, in part, to serving Tier II schools) to undertake one of the interventions described in section I.A.2 of these requirements in each Tier I school, in which case the LEA must indicate the Tier I schools that it can effectively serve. An LEA may not serve with School Improvement Grants funds awarded under section 1003(g) of the ESEA a Tier I or Tier II school in which it does not implement one of the interventions identified in section I.A.2 of these requirements.

5. An LEA that commits to serve schools that do not receive title I, Part A funds must ensure that each such school it serves receives all of the State and local funds it would have received in the absence of the School Improvement Grants funds.

6. An LEA in which one or more Tier I schools are located and that does not apply to serve at least one of these schools may not apply for a grant to serve only Tier III schools.

7. An LEA in which one or more priority schools are located and that does not apply to serve all of these schools may not apply for a grant to serve one or more focus schools.

8. (a) To monitor each Tier I, Tier II, priority, and focus school that receives School Improvement Grants funds, an LEA must—

(1) Establish annual goals for student achievement on the State's assessments in both reading/language arts and mathematics; and

(2) Measure progress on the leading indicators in section III of these requirements.

(b) The LEA must also meet the requirements with respect to adequate yearly progress in section 1111(b)(2) of the ESEA, if applicable.

9. An LEA must hold the charter school operator, CMO, EMO, or other external provider accountable for meeting these requirements, if applicable.

B. SEA requirements.

1. (a) To receive a School Improvement Grant, an SEA must submit an application to the Department at such time, and containing such information, as the Secretary shall reasonably require.

(b) In its application to the Department, each SEA may submit one State-determined intervention model for the Secretary's review and approval. To be approved, a State-determined model must be a whole-school reform model as defined in these requirements and, at the SEA's discretion, may also include any other elements or strategies that the SEA determines will help improve student achievement.

2. (a) An SEA must review and approve, consistent with these requirements, an application for a School Improvement Grant that it receives from an LEA.

(b) Before approving an LEA's application, the SEA must ensure that the application meets these requirements, particularly with respect to—

(1) Whether the LEA has agreed to implement one of the interventions identified in section I.A.2 of these requirements in each Tier I and Tier II school or, for an SEA with an approved ESEA flexibility request, each priority and focus school included in its application;

(2) The extent to which the LEA's application demonstrates the LEA's strong commitment to use School Improvement Grants funds to implement the selected intervention by addressing the factors in section I.A.4 of these requirements;

(3) Whether the LEA has the capacity to implement the selected intervention fully and effectively in each school identified in its application; and

(4) Whether the LEA has submitted a budget that includes sufficient funds to implement the selected intervention fully and effectively in each school it identifies in its application.

3. An SEA may, consistent with State law, take over an LEA or specific Tier I, Tier II, priority, or focus schools in order to implement the interventions in these requirements.

4. An SEA may not require an LEA to implement a particular intervention in one or more schools unless the SEA has taken over the LEA or school.

5. To the extent that a school implementing a restart model becomes a charter school LEA, an SEA must hold the charter school LEA accountable, or ensure that the charter school authorizer holds it accountable, for complying with these requirements.

6. An SEA must post on its Web site, within 30 days of awarding School Improvement Grants to LEAs and within 30 days of approving any amendments to LEA applications, all approved LEA applications (including applications to serve Tier I, Tier II, Tier III, priority, and focus schools and approved amendments) as well as a summary of those grants that includes the following information:

(a) Name and National Center for Education Statistics (NCES) identification number of each LEA awarded a grant.

(b) Amount of each LEA's grant.

(c) Name and NCES identification number of each school to be served.

(d) Type of intervention to be implemented in each Tier I, Tier II, priority, and focus school.

7. If an SEA does not have sufficient School Improvement Grants funds to award, for at least three years, a grant to each LEA that submits an approvable application, the SEA must give priority to LEAs to serve Tier I or Tier II schools or, for an SEA with an approved ESEA flexibility request, the SEA must give priority to LEAs to serve priority schools.

8. An SEA must award a School Improvement Grant to an LEA in an amount that is of sufficient size and scope to support the activities required under section 1116 of the ESEA and these requirements. The LEA's total grant may not be less than $50,000 for each school it commits to serve and, for each school in which the LEA commits to fully implement an intervention that meets the requirements under section I.A.2(a), 2(b), 2(d), 2(e), 2(f), or 2(g) of these requirements, may be up to $2,000,000 per year.

9. If an SEA does not have sufficient School Improvement Grants funds to allocate to each LEA with a Tier I or Tier II school or, in an SEA with an approved ESEA flexibility request, to each LEA with a priority or focus school, an amount sufficient to enable the school to implement fully and effectively the specified intervention throughout the period of availability, including any extension afforded through a waiver, the SEA may take into account—

(a) the distribution of Tier I, Tier II, priority, and focus schools among such LEAs in the State to ensure that Tier I and Tier II schools or, in an SEA with an approved ESEA flexibility request, priority and focus schools throughout the State can be served and

(b) the extent to which an LEA applying for a SIG award demonstrates in its application that it will implement one or more evidence-based strategies (as defined in this notice) as part of the SIG intervention model it implements in a school.

10. In identifying Tier I, Tier II, priority, and focus schools in a State for purposes of allocating funds appropriated for School Improvement Grants under section 1003(g) of the ESEA, an SEA must exclude from consideration any school that was previously identified as a Tier I, Tier II, priority, or focus school and in which an LEA is implementing one of the interventions identified in these requirements using funds made available under section 1003(g) of the ESEA.

11. Before submitting its application for a School Improvement Grant to the Department, the SEA must consult with its Committee of Practitioners established under section 1903(b) of the ESEA regarding the rules and policies contained therein and may consult with other stakeholders that have an interest in its application.

C. Renewal for additional one-year periods.

1. An SEA must renew the School Improvement Grant for each affected LEA for additional one-year periods, subject to sections II.C.4-C.6 of these requirements, if the LEA demonstrates that its Tier I, Tier II, priority, and focus schools are meeting the annual goals for student achievement established by the LEA consistent with section II.A.8 of these requirements, and that its Tier III schools are meeting the goals established by the LEA and approved by the SEA.

2. An SEA may renew an LEA's School Improvement Grant with respect to a particular school, subject to the requirements in sections II.C.4-C.6, if the SEA determines that, with respect to that school—

(a) The school is making progress toward meeting the annual goals for student achievement established by the LEA consistent with section II.A.8 of these requirements;

(b) The school is making progress on the leading indicators in section III of these requirements;

(c) The LEA is implementing interventions in the school with fidelity to applicable requirements and to the LEA's application; or

(d) The LEA's Tier III school is making progress toward the goals established by the LEA.

3. If an SEA does not renew an LEA's School Improvement Grant with respect to a particular school, the SEA may reallocate those funds to other eligible LEAs, consistent with these requirements.

4. An SEA, prior to renewing the School Improvement Grant of an LEA that received funds for a full year of planning and other pre-implementation activities for a particular school, must review the performance of the LEA in that school during the planning year against the LEA's approved application and determine that the LEA will be able to fully implement its chosen intervention for the school on the first day of the following school year.

5. An SEA may renew an LEA's School Improvement Grant for a particular school, after three years of continuous intervention implementation in that school, after the SEA has determined that such renewal is appropriate pursuant to the criteria in sections II.C.1-C.2 of these requirements, for up to an additional two years for continued full implementation of the intervention or for activities related to sustaining reforms in the school. An SEA may not renew an LEA's School Improvement Grant if doing so would result in more than five years of continuous School Improvement Grants funding with respect to a particular school.

6. Nothing in these requirements diminishes an SEA's authority to take appropriate enforcement action with respect to an LEA that is not complying with the terms of its grant.

D. State reservation for administration, evaluation, and technical assistance.

An SEA may reserve from the School Improvement Grants funds it receives under section 1003(g) of the ESEA in any given year no more than five percent for administration, evaluation, and technical assistance expenses. An SEA must describe in its application for a School Improvement Grant how the SEA will use these funds.

III. Reporting and Evaluation

A. Reporting metrics.

To inform and evaluate the effectiveness of the interventions identified in these requirements, the Secretary will collect data on the metrics in the following chart. Accordingly, an SEA must report only the following new data with respect to School Improvement Grants:

1. A list of the LEAs, including their NCES identification numbers, that received a School Improvement Grant under section 1003(g) of the ESEA and the amount of the grant.

2. For each LEA that received a School Improvement Grant, a list of the schools that were served, their NCES identification numbers, and the amount of funds or value of services each school received.

3. For any Tier I, Tier II, priority, or focus school, school-level data on the metrics designated on the following chart as “SIG” (School Improvement Grants):

Metric | Source | Achievement indicators | Leading indicators
SCHOOL DATA
Which intervention the school used (e.g., turnaround, restart, evidence-based, whole-school reform model) | SIG
Number of schools in rural LEAs implementing an intervention model with a modified element pursuant to section I.B.6 of these requirements | SIG
Which intervention the school in a rural LEA implementing an intervention model with a modified element pursuant to section I.B.6 of these requirements used | SIG
AYP status | EDFacts | ✓
Which AYP targets the school met and missed | EDFacts | ✓
School improvement status | EDFacts | ✓
Number of minutes within the school year | SIG |  | ✓
STUDENT OUTCOME/ACADEMIC PROGRESS DATA
Percentage of students at or above each proficiency level on State assessments in reading/language arts and mathematics (e.g., Basic, Proficient, Advanced), by grade and by student subgroup | EDFacts | ✓
Student participation rate on State assessments in reading/language arts and in mathematics, by student subgroup | EDFacts |  | ✓
Average scale scores on State assessments in reading/language arts and in mathematics, by grade, for the “all students” group, for each achievement quartile, and for each subgroup | SIG | ✓
Percentage of limited English proficient students who attain English language proficiency | SIG | ✓
Graduation rate | EDFacts | ✓
Dropout rate | EDFacts |  | ✓
Student attendance rate | SIG |  | ✓
Number and percentage of students completing advanced coursework (e.g., AP/IB), early-college high schools, or dual enrollment classes | SIG HS only |  | ✓
College enrollment rates | EDFacts | ✓
STUDENT CONNECTION AND SCHOOL CLIMATE
Discipline incidents | EDFacts |  | ✓
Chronic absenteeism rates | CRDC |  | ✓
TALENT
Distribution of teachers by performance level on LEA's teacher evaluation system | SIG |  | ✓
Teacher attendance rate | SIG |  | ✓

4. An SEA must report these metrics for the school year prior to implementing the intervention, if the data exist, to serve as a baseline, and for each year thereafter for which the SEA allocates School Improvement Grants funds under section 1003(g) of the ESEA. With respect to a school that is closed, the SEA need report only the identity of the school and the intervention taken—i.e., school closure.

B. Evaluation.

An LEA that receives a School Improvement Grant must participate in any evaluation of that grant conducted by the Secretary.

Note: This notice does not solicit applications. In any year in which we choose to use this priority and these definitions, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action will have an annual effect on the economy of more than $100 million because fiscal year 2014 appropriations for the program, which the Department will award to SEAs in fiscal year 2015, are approximately $506 million. Therefore, this final action is “economically significant” and subject to review by OMB under section 3(f)(1) of Executive Order 12866. Notwithstanding this determination, we have assessed the potential costs and benefits, both quantitative and qualitative, of this regulatory action and have determined that the benefits justify the costs.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final requirements only on a reasoned determination that their benefits justify their costs. In choosing among alternative regulatory approaches, we selected those approaches that would maximize net benefits. Based on the analysis that follows, the Department believes that this regulatory action is consistent with the principles in Executive Order 13563.

We also have determined that this regulatory action will not unduly interfere with State, local, and tribal governments in the exercise of their governmental functions.

In this regulatory impact analysis we discuss the potential costs and benefits and the regulatory alternatives we considered.

Summary of Potential Costs and Benefits

The Department believes that the final requirements will not impose significant costs on SEAs and LEAs that receive SIG funds. State and local costs of implementing the final requirements (including State costs of applying for grants, distributing grant funds to LEAs, ensuring compliance with the proposed requirements, and reporting to the Department; and LEA costs of applying for subgrants and implementing interventions) will be financed through grant funds. We do not believe that the final requirements will impose burden that SEAs or LEAs will need to meet from other sources.

This regulatory action will continue to drive SIG funds to LEAs that have the lowest-achieving schools in amounts sufficient to turn those schools around and significantly increase student achievement. It will also continue to require participating LEAs to adopt the most effective approaches to turning around low-achieving schools. In short, we believe that this action will ensure that limited SIG funds continue to be put to their optimum use—that is, that they are targeted to where they are most needed and used in the most effective manner possible. The benefits, then, will be more effective schools serving children from low-income families and a better education for those children.

Regulatory Alternatives Considered

As discussed elsewhere, the Department believes that the final requirements are needed to ensure that the SIG program is implemented in a manner that, among other things, is consistent with the programmatic changes made by Congress in the Consolidated Appropriations Act, 2014. One alternative to promulgation of the final requirements would be for the Department to allocate fiscal year 2014 SIG funds without establishing any new requirements governing their use. Under such an alternative, States and LEAs would need to implement the new provisions in the appropriations language without key regulatory support from the Department. For instance, each State would be responsible for ensuring, for its LEAs that seek to use SIG funds to implement an evidence-based, whole-school reform model in an eligible school, that the strategy selected by the LEA constitutes whole-school reform and is supported by at least moderate evidence of effectiveness. We do not believe that States generally possess the capacity or expertise needed to meet this responsibility with the amount of rigor expected by Congress.

Elsewhere in this section under Paperwork Reduction Act of 1995, we identify and explain burdens specifically associated with information collection requirements.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the changes in annual monetized transfers as a result of this regulatory action. Expenditures are classified as transfers from the Federal Government to SEAs.

Accounting Statement Classification of Estimated Expenditures
[In millions]
Category | Transfers
Annualized Monetized Transfers | $506.
From Whom To Whom? | From the Federal Government to SEAs.

Paperwork Reduction Act of 1995

Under the Paperwork Reduction Act of 1995 (44 U.S.C. 3501-3520), we have assessed the potential information collections in these proposed regulations that would be subject to review by OMB (School Improvement Grants OMB Control number 1810-0682). In conducting this analysis, the Department examined the extent to which the amended regulations would add information collection requirements for public agencies. Based on this analysis, the Secretary has concluded that these amendments to the School Improvement Grants regulations would not impose additional burden associated with information collection requirements.

Changes to the SEA Applications

Under final requirement section II.B.1(b), each SEA may submit, as part of the required application it submits to the Department to receive SIG funds, one State-determined intervention model for review and approval by the Secretary. These final requirements require an SEA to submit a State-determined intervention model as part of its application, if a State chooses to implement this model.

Under the burden estimates currently approved by OMB, 52 SEAs will complete, review, and post SEA and LEA applications for a total of 46,800 annual burden hours at a cost of $30 per hour, totaling an annual cost of $1,404,000. These final requirements do not change the currently approved annual burden for SEAs.

Revising Reporting Requirements

The final requirements make a number of clarifications to the reporting requirements. First, final requirement section III.A.3 eliminates the metric for “Truants” and replaces it with “Chronic absenteeism rates.” Second, final requirement III.A clarifies the correct source for each of the required metrics and removes references to the SFSF previously approved under OMB data collection 1810-0695. Finally, final requirements in section III.A.3 require an SEA to report, with respect to schools receiving SIG awards, the number of schools implementing models with a modified element pursuant to section I.B.6 and which models are being implemented in those schools.

Under the reporting burden estimates, 52 SEAs will report SEA and LEA requirements for a total of 3,640 annual burden hours at a cost of $30 per hour totaling an annual cost of $109,200. These final requirements add burden to the currently approved annual burden for SEAs.

Changes to the LEA Application

The final requirements also add to the existing requirements in section I.A.4(a) (Evidence of strongest commitment) information that, under section II.A.2(c), the LEA must include in the LEA application related to an evidence-based, whole-school reform strategy (for those LEAs that propose to implement such a strategy); meaningful family and community engagement; LEA oversight and support of SIG implementation; review of, and accountability for, external provider performance; implementation of an evidence-based strategy or strategies, if practicable; the review process for selecting a charter school operator, CMO, or EMO; and implementation of evidence-based strategies.

Under the burden estimates that are currently approved by OMB, 3,050 LEAs will complete an application for a total of 183,000 annual burden hours at a cost of $25 per hour totaling an annual cost of $4,575,000. These final requirements do not change the approved annual burden for LEAs.

Collection of Information

State Educational Agency Estimate
SIG Activity | Number of SEAs | Hours/Activity | Hours | Cost/Hour | Cost
Complete SEA application (including requests for waivers) | 52 | 100 | 5,200 | $30 | $156,000
Review and post LEA applications | 52 | 800 | 41,600 | $30 | $1,248,000
Reporting | 52 | 70 | 3,640 | $30 | $109,200
Total |  |  | 50,440 | $30 | $1,513,200

Local Educational Agency Estimate
SIG Activity | Number of LEAs | Hours/Activity | Hours | Cost/Hour | Cost
Complete LEA application | 3,050 | 60 | 183,000 | $25 | $4,575,000
Total |  |  | 183,000 | $25 | $4,575,000

Waiver of Congressional Review Act

These regulations have been determined to be major for purposes of the Congressional Review Act (CRA) (5 U.S.C. 801, et seq.). Generally, under the CRA, a major rule takes effect 60 days after the date on which the rule is published in the Federal Register. Section 808(2) of the CRA, however, provides that any rule which an agency for good cause finds (and incorporates the finding and a brief statement of reasons therefor in the rule issued) that notice and public procedure thereon are impracticable, unnecessary, or contrary to the public interest, shall take effect at such time as the Federal agency promulgating the rule determines.

These final requirements implement language in the Consolidated Appropriations Act, 2014 (Pub L. 113-76), that modifies the SIG program in substantial ways, described below. The Department must award SIG funds to State educational agencies (SEAs) in enough time that they can conduct competitions for LEAs to apply for the SIG funds and begin implementation by the start of the 2015-2016 school year. Even on an extremely expedited timeline, it is impracticable for the Department to adhere to a 60-day delayed effective date for the final requirements and make grant awards to SEAs such that there is sufficient time for them to conduct competitions. When the 60-day delayed effective date is added to the time the Department will need to receive SEA applications (approximately 30 days from the date on which these final requirements become effective), review the applications (approximately 14 days), and finally approve applications (approximately 30 days), the Department will not be able to allocate funds authorized under the Consolidated Appropriations Act, 2014, and section 1003(g) of title I of the ESEA to all qualified applicants before June 2015, leaving SEAs almost no time to conduct LEA competitions before the start of the school year. Therefore, waiting the full 60 days would cause an undue burden to SEAs and LEAs by giving them a shorter period of time to plan for and implement the new SIG requirements. With approximately $506 million at stake, the delayed effective date would be impracticable and contrary to the public interest. The Department has therefore determined that, pursuant to section 808(2) of the CRA, the 60-day delay in the effective date generally required for congressional review is impracticable, contrary to the public interest, and waived for good cause.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Deborah Delisle,
Assistant Secretary for Elementary and Secondary Education.

[FR Doc. 2015-02570 Filed 2-4-15; 4:15 pm]

BILLING CODE 4000-01-P